DEPARTMENT OF HOUSING AND URBAN DEVELOPMENT

[Docket No. FR-4809-N-12]

Federal Property Suitable as Facilities to Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Mark Johnston, room 7266, Department of Housing and Urban Development, 451 Seventh Street SW, Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Shirley Kramer, Division of Property Management, Program Support Center, HHS, room 5B-41, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Air Force: Mr. Albert F. Lowas, Jr., Air Force Real Property Agency, 1700 North Moore St., Suite 2300, Arlington, VA 22209-2802; (703) 696-5501; DOT: Mr. Rugene Spruill, Project Manager, DOT Headquarters Project Team, Department of Transportation, 400 7th Street, SW, Room 10314, Washington, DC 20590; (202) 366-4246; Energy: Mr. Tom Knox, Department of Energy, Office of Engineering & Construction Management, CR-80, Washington, DC 20585; (202) 586-8715; GSA: Mr. Brian K. Polly, Assistant Commissioner, General Services Administration, Office of Property Disposal, 18th and F Streets, NW, Washington, DC 20405; (202) 501-0052; Interior: Ms. Linda Tribby, Acquisition & Property Management, Department of the Interior, 1849 C Street, NW, MS5512, Washington, DC 20240; (202) 219-0728; Navy: Mr. Charles C. Cocks, Director, Department of the Navy, Real Estate Policy Division, Naval Facilities Engineering Command, Washington Navy Yard, 1322 Patterson Ave., SE, Suite 1000, Washington, DC 20374-5065; (202) 685-9200; (These are not toll-free numbers).

Dated: March 13, 2003.
John D. Garrity,
Director, Office of Special Needs Assistance Programs.

TITLE V, FEDERAL SURPLUS PROPERTY PROGRAM FEDERAL REGISTER REPORT FOR 3/21/03

Suitable/Available Properties

Buildings (by State)

Alaska

Bldg. 6165

Elmendorf AFB

Elmendorf AFB Co: AK 99506-

Landholding Agency: Air Force

Property Number: 18200230007

Status: Unutilized

Comment: 15970 sq. ft., possible asbestos/lead paint, most recent use—barracks, off-site use only

Bldg. 6173

Elmendorf AFB

Elmendorf Co: AK 99506-

Landholding Agency: Air Force

Property Number: 18200230008

Status: Unutilized

Comment: 16290 sq. ft., possible asbestos/lead paint, most recent use—barracks, off-site use only

Bldg. 7525

Elmendorf AFB

Elmendorf AFB Co: AK 99506-

Landholding Agency: Air Force

Property Number: 18200230009

Status: Unutilized

Comment: 26,226 sq. ft., need rehab, possible asbestos/lead paint, most recent use—dormitory, off-site use only

Arkansas

Post Antenna Tower Site

1.5 west of USHwy 165

Gillette Co: AR 72055-

Landholding Agency: GSA

Property Number: 54200230008

Status: Surplus

Comment: radio repeater tower, presence of asbestos/lead paint, on 2.06 acres GSA Number: 7-D-AR-563

Joy Antenna Tower Site

Range 9 West

Searcy Co: White AR 72143-

Landholding Agency: GSA

Property Number: 54200230011

Status: Surplus

Comment: radio repeater tower, presence of asbestos/lead paint, subject to existing easements, on 1.75 acres GSA Number: 7-D-AR-564

Jamestown Antenna Tower Site

Jamestown Co: Independence AR 7250-

Landholding Agency: GSA

Property Number: 54200240001

Status: Surplus

Comment: radio repeater tower on 1.05 acres, subject to existing easements GSA Number: 7-D-AR-0562

Ash Flat Comm. Site

Gillette Co: AR 72055-

Landholding Agency: GSA

Property Number: 54200240002

Status: Surplus

Comment: radio repeater tower on 2.06 acres, subject to existing easements GSA Number: 7-D-AR-0565

Idaho

Bldg. CF603

Idaho Natl Eng & Env Lab

Scoville Co: Butte ID 83415-

Landholding Agency: Energy

Property Number: 41200020004

Status: Excess

Comment: 15,005 sq ft. cinder block, presence of asbestos/lead paint, major rehab, off-site use only

Illinois

Soc. Sec. Admin. Ofc.

525 18th Street

Rock Island Co: IL

Landholding Agency: GSA

Property Number: 54200310017

Status: Excess

Comment: 5800 sq. ft., most recent use—office

GSA Number: 1-G-IL-730

Indiana

Soc. Sec. Admin. Ofc.

327 West Marion

Elkhart Co: IN

Landholding Agency: GSA

Property Number: 54200310016

Status: Excess

Comment: 6600 sq. ft., most recent use—office

GSA Number: 1-G-IN-596

Michigan

Detroit Job Corp Center 10401 E. Jefferson 1265 St. Clair

Detroit Co: Wayne MI

Landholding Agency: GSA

Property Number: 54200230012

Status: Surplus

Comment: Parcel One = 80,590 sq. ft. bldg., needs repair, presence of asbestos; Parcel Two = 5140 sq. ft. bldg.

GSA Number: 2-L-MI-757

Missouri

Bldgs. 90A/B, 91A/B, 92A/B

Jefferson Barracks Housing

St. Louis Co: MO 63125-

Landholding Agency: Air Force

Property Number: 18200220002

Status: Excess

Comment: 6450 sq. ft., needs repair, includes 2 acres

Columbia Federal Ofc. Bldg.

608 Cherry Street

Columbia Co: Boone MO 65201-7712

Landholding Agency: GSA

Property Number: 54200230016

Status: Surplus

Comment: 30,609 sq. ft., needs rehab, most recent use—office

GSA Number : 7-C-MO-633

Old Custom House/P.O.

815 Olive Street

St. Louis Co: MO 63101-

Landholding Agency: GSA

Property Number: 54200240016

Status: Surplus

Comment: 6-story office building, restrictive use due to Historical Landmark status

GSA Number: 7-G-MO-074

New York

Lockport Comm. Facility

Shawnee Road

Lockport Co: Niagara NY

Landholding Agency: Air Force

Property Number: 18200040004

Status: Excess

Comment: 2 concrete block bldgs., (415 & 2929 sq. ft.) on 7.68 acres

South Dakota

West Communications Annex

Ellsworth Air Force Base

Ellsworth AFB Co: Meade SD 57706-

Landholding Agency: Air Force

Property Number: 18199340051

Status: Unutilized

Comment: 2 bldgs. on 2.37 acres, remote area, lacks infrastructure, road hazardous during winter storms, most recent use—industrial storage

Virginia

Federal Building

103 South Main Street

Farmville Co: Prince Edward VA 23901-

Landholding Agency: GSA

Property Number: 54200310020

Status: Excess

Comment: 7686 sq. ft., historic preservation covenants, most recent use—office

GSA Number : 4-G-VA-732

Land (by State)

Florida

Homestead Communications Annex

Homestead Co: Dare FL 33033-

Landholding Agency: Air Force

Property Number: 18200210015

Status: Excess

Comment: 20 acres w/concrete bldg., consist of wetlands/100 year floodplain, most recent use—high frequency regional broadcasting system

Kentucky

Tract 832

Cloverport Access Site 2

Cloverport Co: Breckinridge KY

Landholding Agency: GSA

Property Number: 54200310018

Status: Excess

Comment: approx. 15.70 acres including parking area & boat ramp, chance of flooding, potential lease restriction

GSA Number: 4-D-KY-539D

Missouri

Improved Land

St. Louis Army Ammunition Plant

4800 Goodfellow Blvd.

St. Louis Co: MO 63120-1798

Landholding AGENCY: GSA

Property Number: 54200110007

Status: Surplus

Comment: 21 acres w/2 large bldgs. and numerous small bldgs. situated on 13 acres, 5 acres = parking lot and streets, presence of asbestos/lead paint, clean-up required to state regulator standards

GSA Number: 000000

Montana

Canyon Ferry Reservoir

Portion

Tracts FS-1, FS-2, FS-3, FS-4

Lewis & Clark Co: MT 59602-

Landholding Agency: GSA

Property Number: 54200240010

Status: Surplus

Comment: 8.47 acres, subject to existing easements, buffer zone GSA Number: 7-I-MT-0409

Nebraska

Hastings Radar Bomb Scoring

Hastings Co: Adams NE 68901-

Landholding Agency: Air Force

Property Number: 18199810027

Status: Unutilized

Comment: 11 acres

South Dakota

S. Nike Ed. Annex Land

Ellsworth AFB

Pennington Co: SD 57706-

Landholding Agency: Air Force

Property Number: 18200220010

Status: Unutilized

Comment: 7 acres w/five foundations from demolished bldgs. remain on site; with a road and a parking lot

Suitable/Unavailable Properties

Buildings (by State)

Alabama

Coosa River Storage Annex

Anniston Army Depot

Talladega Co: q AL 35161-

Landholding Agency: GSA

Property Number: 54200230001

Status: Excess

Comment: 136 storage igloos, two cemeteries, sentry bldg., ofc. bldg., admin. bldg. in poor condition on 2834 acres

GSA Number: 4-J-AL-541

California

Merced Federal Bldg.

415 W. 18th St.

Merced Co: CA 95340-

Landholding Agency: GSA

Property Number: 54200220012

Status: Surplus

Comment: 15,492 sq. ft., presence of asbestos/lead paint, Historic Preservation Covenant will be included in deed, relocation issue

GSA Number: 9-G-CA-1567

Colorado

Bldg. 100

La Junta Strategic Range

La Junta Co: Otero CO 81050-9501

Landholding Agency: Air Force

Property Number: 18200230001

Status: Excess

Comment: 7760 sq. ft., most recent use—admin/electronic equip. maintenance

Bldg. 101

La Junta Strategic Range

La Junta Co: Otero CO 81050-9501

Landholding Agency: Air Force

Property Number: 18200230002

Status: Excess

Comment: 336 sq. ft., most recent use—storage

Bldg. 102

La Junta Strategic Range

La Junta Co: Otero CO 81050-9501

Landholding Agency: Air Force

Property Number: 18200230003

Status: Excess

Comment: 1056 sq. ft., most recent use—storage

Bldg. 103

La Junta Strategic Range

La Junta Co: Otero CO 81050-9501

Landholding Agency: Air Force

Property Number: 18200230004

Status: Excess

Comment: 784 sq. ft., most recent use—storage

Bldg. 104

La Junta Strategic Range

La Junta Co: Otero CO 81050-9501

Landholding Agency: Air Force

Property Number: 18200230005

Status: Excess

Comment: 312 sq. ft., most recent use—storage

Bldg. 106

La Junta Strategic Range

La Junta Co: Otero CO 81050-9501

Landholding Agency: Air Force

Property Number: 18200230006

Status: Excess

Comment: 100 sq. ft., most recent use—storage

Idaho

Bldg. 224

Mountain Home Air Force

Co: Elmore ID 83648-

Landholding Agency: Air Force

Property Number: 18199840008

Status: Unutilized

Comment: 1890 sq. ft., no plumbing facilities, possible asbestos/ lead paint, most recent use—office

Bldg. CFA-613

Central Facilities Area

Idaho National Engineering Lab

Scoville Co: Butte ID 83415-

Landholding Agency: Energy

Property Number: 41199630001

Status: Unutilized

Comment: 1219 sq. ft., most recent use—sleeping quarters, presence of asbestos, off-site use only

Illinois

LaSalle Comm. Tower Site

1600 NE 8th St.

Richland Co: LaSalle IL 61370-

Landholding Agency: GSA

Property Number: 54200020019

Status: Excess

Comment: 120 sq. ft. cinder block bldg. and a 300' tower

GSA Number: 1-D-IL-724

Iowa

Bldg. 00669

Sioux Gateway Airport

Sioux City Co: Woodbury IA 51110-

Landholding Agency: Air Force

Property Number: 18199310002

Status: Unutilized

Comment: 1113 sq. ft., 1-story concrete block bldg., contamination clean-up in process

Maryland

29 Bldgs.

Walter Reed Army Medical Center

Forest Glen Annex, Linden Lane

Silver Spring Co: Montgomery MD 20910-1246

Location: 24 bldgs. are in poor condition, presence of asbestos/lead paint, most recent use—hospital annex, lab, office

Landholding Agency: GSA

Property Number: 54200130012

Status: Excess

Comment: Historic Preservation Covenants will impact reuse, property will not be parcelized for disposal, high cost associated w/maintenance, estimated cost to renovate $17 million

GSA Number: 4-D-MD-558-B

Massachusetts

Aircraft Hanger

Hanscom Air Force Base

Concord Co: MA -

Landholding Agency: GSA

Property Number: 54200140007

Status: Excess

Comment: 40,000 sq. ft., off-site use only, relocating property may not be feasible

GSA Number: 1-D-MA-0857679

Michigan

Pontiac Federal Bldg.

142 Auburn Ave.

Pontiac Co: Oakland MI

Landholding Agency: GSA

Property Number: 54200220005

Status: Surplus

Comment: 11,910 sq. ft., most recent use—office

GSA Number: 1-G-MI-809

Minnesota

GAP Filler Radar Site

St. Paul Co: Rice MN 55101-

Landholding Agency: GSA

Property Number: 54199910009

Status: Excess

Comment: 1266 sq. ft., concrete block, presence of asbestos/lead paint, most recent use—storage, zoning requirements, preparations for a Phase I study underway, possible underground storage tank

GSA Number: 1-GR(1)-MN-475

MG Clement Trott Mem. USARC

Walker Co: Cass MN 56484-

Landholding Agency: GSA

Property Number: 54199930003

Status: Excess

Comment: 4320 sq. ft. training center and 1316 sq. ft. vehicle maintenance shop, presence of environmental conditions

GSA Number: 1-D-MN-575

Mississippi

Post Office/Courthouse

820 Crawford Street

Vicksburg Co: Warren MS 39180-

Landholding Agency: GSA

Property Number: 54200240013

Status: Surplus

Comment: 14,000 sq. ft., needs rehab, presence of asbestos, historic preservation covenant required, portion occupied by Federal tenants

GSA Number: 4-G-MS-0559

Missouri

Hardesty Federal Complex

607 Hardesty Avenue

Kansas City Co: Jackson MO 64124-3032

Landholding Agency: GSA

Property Number: 54199940001

Status: Excess

Comment: 7 warehouses and support buildings (540 to 216,000 sq. ft.) on 17.47 acres, major rehab, most recent use—storage/office, utilities easement

GSA Number: 7-G-MO-637

New Jersey

Chapel Hill Front Range Light

N. Lenard Ave.

Middletown Co: Monmouth NJ

Landholding Agency: GSA

Property Number: 54200240011

Status: Excess

Comment: steel tower on 0.40 acres, possible flood hazard, wetlands & possible endangered species

GSA Number: 1-U-NJ-0627

New York

Bldg. 1225

Verona Text Annex

Verona Co: Oneida NY 13478-

Landholding Agency: Air Force

Property Number: 18200220014

Status: Unutilized

Comment: 3865 sq. ft., needs repair, presence of asbestos/lead paint, most recent use—research lab

Bldg. 1226

Verona Test Annex

Verona Co: Oneida NY 13478-

Landholding Agency: Air Force

Property Number: 18200220015

Status: Unutilized

Comment: 7500 sq. ft., most recent use—storage

Bldg. 1227

Verona Text Annex

Verona Co: Oneida NY 13478-

Landholding Agency: Air Force

Property Number: 18200220016

Status: Unutilized

Comment: 1152 sq. ft., presence of asbestos/lead paint, most recent use—power station

Bldg. 1231

Verona Test Annex

Verona Co: Oneida NY 13478-

Landholding Agency: Air Force

Property Number: 18200220017

Status: Unutilized

Comment: 3865 sq. ft., presence of asbestos/lead paint/volatile organic compounds, access requirements, most recent use—research lab

Bldg. 1233

Verona Test Annex

Verona Co: Oneida NY 13478-

Landholding Agency: Air Force

Property Number: 18200220018

Status: Unutilized

Comment: 1152 sq. ft., needs repair, presence of asbestos/lead paint/volatile organic compounds, access requirements, most recent use—power station

Bldgs. 1235, 1239

Verona Test Annex

Verona Co: Oneida NY 13478-

Landholding Agency: Air Force

Property Number: 18200220019

Status: Unutilized

Comment: 144/825 sq. ft., need repairs, presence of lead paint, most recent use—electric switch station

Bldg. 1241

Verona Test Annex

Verona Co: Oneida NY 13478-

Landholding Agency: Air Force

Property Number: 18200220020

Status: Unutilized

Comment: 159 sq. ft., presence of lead paint, most recent use—sewage pump station

Bldg. 1243

Verona Test Annex

Verona Co: Oneida NY 13478-

Landholding Agency: Air Force

Property Number: 18200220021

Status: Unutilized

Comment: 25 sq. ft., most recent use—waste treatment

Bldg. 1245

Verona Test Annex

Verona Co: Oneida NY 13478-

Landholding Agency: Air Force

Property Number: 18200220022

Status: Unutilized

Comment: 3835 sq. ft., needs repair, presence of asbestos/lead paint, most recent use—research lab

Bldg. 1247

Verona Test Annex

Verona Co: Oneida NY 13478-

Landholding Agency: Air Force

Property Number: 18200220023

Status: Unutilized

Comment: 576 sq. ft., needs repair, presence of asbestos/lead paint, most recent use—power station

Bldg. 1250 + land

Verona Test Annex

Verona Co: Oneida NY 13478-

Landholding Agency: Air Force

Property Number: 18200220024

Status: Unutilized

Comment: 11,766 sq. ft. offices/lab with 495 acres, presence of asbestos/lead paint/wetlands

Bldg. 1253

Verona Test Annex

Verona Co: Oneida NY 13478-

Landholding Agency: Air Force

Property Number: 18200220025

Status: Unutilized

Comment: 3835 sq. ft., needs repair, presence of asbestos/lead paint/volatile organic compounds, access requirements, most recent use—research lab

Bldg. 1255

Verona Test Annex

Verona Co: Oneida NY 13478-

Landholding Agency: Air Force

Property Number: 18200220026

Status: Unutilized

Comment: 576 sq. ft., needs repair, presence of lead paint/volatile organic compounds, access requirement, most recent use—power station

Bldg. 1261

Verona Test Annex

Verona Co: Oneida NY 13478-

Landholding Agency: Air Force

Property Number: 18200220027

Status: Unutilized

Comment: 3835 sq. ft., needs repair, presence of asbestos/lead paint, most recent use—research lab

Bldg. 1263

Verona Test Annex

Verona Co: Oneida NY 13478-

Landholding Agency: Air Force

Property Number: 18200220028

Status: Unutilized

Comment: 576 sq. ft. needs repair, presence of lead paint, most recent use—power station

Bldgs. 1266, 1269

Verona Test Annex

Verona Co: Oneida NY 13478-

Landholding Agency: Air Force

Property Number: 18200220029

Status: Unutilized

Comment: 3730/3865 sq. ft., need repairs, presence of asbestos/lead paint, most recent use—research lab

Bldg. 1271

Verona Test Annex

Verona Co: Oneida NY 13478-

Landholding Agency: Air Force

Property Number: 18200220030

Status: Unutilized

Comment: 1152 sq. ft., needs repair, presence of lead paint, most recent use—power station

Bldg. 1273

Verona Test Annex

Verona Co: Oneida NY 13478-

Landholding Agency: Air Force

Property Number: 18200220031

Status: Unutilized

Comment: 87 sq. ft., presence of asbestos, most recent use—sewage pump station

Bldg. 1277

Verona Test Annex

Verona Co: Oneida NY 13478-

Landholding Agency: Air Force

Property Number: 18200220032

Status: Unutilized

Comment: 3865 sq. ft., needs repair, presence of asbestos/lead paint, most recent use—research lab

Bldg. 1279

Verona Test Annex

Verona Co: Oneida NY 13478-

Landholding Agency: Air Force

Property Number: 18200220033

Status: Unutilized

Comment: 1152 sq. ft., needs repair, presence of lead paint, most recent use—power station

Bldg. 1285

Verona Test Annex

Verona Co: Oneida NY 13478-

Landholding Agency: Air Force

Property Number: 18200220034

Status: Unutilized

Comment: 4690 sq. ft., needs repair, presence of asbestos/lead paint, most recent use—research lab

Bldg. 1287

Verona Test Annex

Verona Co: Oneida NY 13478-

Landholding Agency: Air Force

Property Number: 18200220035

Status: Unutilized

Comment: 1152 sq. ft., needs repair, presence of lead paint, most recent use—power station

Social Sec. Admin. Bldg.

517 N. Barry St.

Olean Co: NY 10278-0004

Landholding Agency: GSA

Property Number: 54200230009

Status: Excess

Comment: 9174 sq. ft., poor condition, most recent use—office

GSA Number: 1-G-NY-0895

Army Reserve Center

205 Oak Street

Batavia Co: NY 14020-

Landholding Agency: GSA

Property Number: 54200240004

Status: Excess

Comment: 9695 sq. ft., presence of asbestos/lead paint, most recent use—admin/storage, proximity of wetlands

GSA Number: 1-D-NY-890

North Carolina

Tarheel Army Missile Plant

Burlington Co: Alamance NC 27215-

Landholding Agency: GSA

Property Number: 54199820002

Status: Excess

Comment: 31 bldgs., presence of asbestos, most recent use—admin., warehouse, production space and 10.04 acres parking area, contamination at site—environmental clean up in process

GSA Number: 4-D-NC-593

Vehicle Maint. Facility

310 New Bern Ave.

Raleigh Co: Wake NC 27601-

Landholding Agency: GSA

Property Number: 54200020012

Status: Excess

Comment: 10,455 sq. ft., most recent use—maintenance garage

GSA Number: NC076AB

Pennsylvania

Bldg. 201

Pittsburgh IAP

Corapolis Co: Allegheny PA 15108-

Landholding Agency: Air Force

Property Number: 18200240014

Status: Excess

Comment: 310 sq. ft., most recent use—storage

Bldg. 203

Pittsburgh IAP

Corapolis Co: Allegheny PA 15108-

Landholding Agency: Air Force

Property Number: 18200240015

Status: Excess

Comment: 4163 sq. ft., most recent use—vehicle maint. shop

Bldg. 208

Pittsburgh IAP

Corapolis Co: Allegheny PA 15108-

Landholding Agency: Air Force

Property Number: 18200240016

Status: Excess

Comment: 144 sq. ft., most recent use—storage

Bldg. 210

Pittsburgh IAP

Corapolis Co: Allegheny PA 15108-

Landholding Agency: Air Force

Property Number: 18200240017

Status: Excess

Comment: 263 sq. ft., most recent use—storage

Bldg. 211

Pittsburgh IAP

Corapolis Co: Allegheny PA 15108-

Landholding Agency: Air Force

Property Number: 18200240018

Status: Excess

Comment: 1731 sq. ft., most recent use—office

Bristol Social Security Bldg.

1776 Farragut St.

Bristol Co: Bucks PA 19007-

Landholding Agency: GSA

Property Number: 54200230002

Status: Surplus

Comment: 7569 sq. ft., most recent use—office

GSA Number: 4-G-PA-792

Puerto Rico

7.5 Naval Reservation

Munoz Rivera Ave.

San Juan Co: PR

Landholding Agency: GSA

Property Number: 54200240012

Status: Excess

Comment: multi-use structures including admin. and residential, presence of asbestos/lead paint, exhibits historical and archeological significance

GSA Number: 1-N-PR-497

Tennessee

3 Facilities, Guard Posts

Volunteer Army Ammunition Plant

Chattanooga Co: Hamilton TN 37421-

Landholding Agency: GSA

Property Number: 54199930011

Status: Surplus

Comment:

48-64 sq. ft., most recent use—access control, property was published in error as available on 2/11/00

GSA Number: 4-D-TN-594F

4 Bldgs.

Volunteer Army Ammunition Plant

Railroad System Facilities

Chattanooga Co: Hamilton TN 37421-

Landholding Agency: GSA

Property Number: 54199930012

Status: Surplus

Comment: 144-2,420 sq. ft., most recent use—storage/rail weighing facilities/dock, potential use restrictions, property was published in error as available on 2/11/00

GSA Number: 4-D-TN-594F

200 Bunkers

Volunteer Army Ammunition Plant

Storage Magazines

Chattanooga Co: Hamilton TN 37421-

Landholding Agency: GSA

Property Number: 54199930014

Status: Surplus

Comment: approx. 200 concrete bunkers covering a land area of approx. 4000 acres, most recent use—storage/buffer area, potential use restrictions, property was published in error as available on 2/11/00

GSA Number: 4-D-TN-594F

Bldg. 232

Volunteer Army Ammunition Plant

Chattanooga Co: Hamilton TN 37421-

Landholding Agency: GSA

Property Number: 54199930020

Status: Surplus

Comment: 10,000 sq. ft., most recent use—office, presence of asbestos, approx. 5 acres associated w/bldg., potential use restrictions, property was published in error as available on 2/11/00

GSA Number: 4-D-TN-594F

2 Laboratories

Volunteer Army Ammunition Plant

Chattanooga Co: Hamilton TN 37421-

Landholding Agency: GSA

Property Number: 54199930021

Status: Surplus

Comment: 2000-12,000 sq. ft., potential use/lease restrictions, property was published in error as available on 2/11/00

GSA Number: 4-D-TN-594F

3 Facilities

Volunteer Army Ammunition Plant

Water Distribution Facilities

Chattanooga Co: Hamilton TN 37421-

Landholding Agency: GSA

Property Number: 54199930022

Status: Surplus

Comment: 256-15,204 sq. ft., 35.86 acres associated w/bldgs., most recent use—water distribution system, potential use/lease restrictions, property was published in error as available on 2/11/00

GSA Number: 4-D-TN-594F

Federal Bldg.

118 East Locust Street

Lafayette Co: Macon TN 37083-

Landholding Agency: GSA

Property Number: 54200220010

Status: Excess

Comment: 12,605 sq. ft., most recent use—office, portion occupied by U.S. Postal Service

GSA Number: 4-G-TN-656

Wisconsin

Wausau Federal Building

317 First Street

Wausau Co: Marathon WI 54401-

Landholding Agency: GSA

Property Number: 54199820016

Status: Excess

Comment: 30,500 sq. ft., presence of asbestos, eligible for listing on the Natl Register of Historic Places, most recent use—office

GSA Number: 1-G-WI-593

Land (by State)

Hawaii

Parcels 9, 2, 4

Loran Station Upolu Point

Hawi Co: Hawaii HI

Location: Resubmitted to Federal Register for publication

Landholding Agency: GSA

Property Number: 54200220002

Status: Surplus

Comment: parcel 9 = 6.242 acres/encumbered by utility and road access easements, parcel 2 = 1.007 acres; parcel 4 = 5.239 acres

GSA Number: 9-U-HI-0572

New Jersey

Belle Mead Depot

Rt. 206/Mountain View Rd.

Hillsborough Co: Somerset NJ 08502-

Landholding Agency: GSA

Property Number: 54200210014

Status: Excess

Comment: approx. 400 acres, property will not be subdivided, contaminants of concern present, lease restriction on 7 acres, 44 miles of railroad track, remediation activity, potential restriction of property f

GSA Number: 1-G-NJ-0642

Puerto Rico

Bahia Rear Range Light

Ocean Drive

Catano Co: PR 00632-

Landholding Agency: GSA

Property Number: 54199940003

Status: Excess

Comment: 0.167 w/skeletal tower, fenced, aid to navigation

GSA Number: 1-T-PR-508

South Dakota

Tract 133

Ellsworth AFB

Box Elder Co: Pennington SD 57706-

Landholding Agency: Air Force

Property Number: 18200310004

Status: Unutilized

Comment: 53.23 acres

Tract 67

Ellsworth AFB

Box Elder Co: Pennington SD 57706-

Landholding Agency: Air Force

Property Number: 18200310005

Status: Unutilized

Comment: 121 acres, bentonite layer in soil, causes movement

Tennessee

1500 Acres

Volunteer Army Ammunition Plant

Chattanooga Co: Hamilton TN 37421-

Landholding Agency: GSA

Property Number: 54199930015

Status: Surplus

Comment: scattered throughout facility, most recent use—buffer area, steep topography, potential use restrictions, property was published in error as available on 2/11/00

GSA Number: 4-D-TN-594F

Suitable/To Be Excessed

Buildings (by State)

New York

Bldg. 1

Hancock Field

Syracuse Co: Onandaga NY 13211-

Landholding Agency: Air Force

Property Number: 18199530048

Status: Excess

Comment: 4955 sq. ft., 2 story concrete block, needs rehab, most recent use—administration

Bldg. 2

Hancock Field

Syracuse Co: Onandaga NY 13211-

Landholding Agency: Air Force

Property Number: 18199530049

Status: Excess

Comment: 1476 sq. ft., 1 story concrete block, needs rehab, most recent use—repair shop

Bldg. 6

Hancock Field

Syracuse Co: Onandaga NY 13211-

Landholding Agency: Air Force

Property Number: 18199530050

Status: Excess

Comment: 2466 sq. ft., 1 story concrete block, needs rehab, most recent use—repair shop

Bldg. 11

Hancock Field

Syracuse Co: Onandaga NY 13211-

Landholding Agency: Air Force

Property Number: 18199530051

Status: Excess

Comment: 1750 sq. ft., 1 story wood frame, needs rehab, most recent use—storage

Bldg. 8

Hancock Field

Syracuse Co: Onandaga NY 13211-

Landholding Agency: Air Force

Property Number: 18199530052

Status: Excess

Comment: 1812 sq. ft., 1 story concrete block, needs rehab, most recent use—repair shop communications

Bldg. 14

Hancock Field

Syracuse Co: Onandaga NY 13211-

Landholding Agency: Air Force

Property Number: 18199530053

Status: Excess

Comment: 156 sq. ft., 1 story wood frame, most recent use—vehicle fuel station

Bldg. 30

Hancock Field

Syracuse Co: Onandaga NY 13211-

Landholding Agency: Air Force

Property Number: 18199530054

Status: Excess

Comment: 3649 sq. ft., 1 story, needs rehab, most recent use—assembly hall

Bldg. 31

Hancock Field

Syracuse Co: Onandaga NY 13211-

Landholding Agency: Air Force

Property Number: 18199530055

Status: Excess

Comment: 8252 sq. ft., 1 story concrete block, most recent use—storage

Bldg. 32

Hancock Field

Syracuse Co: Onandaga NY 13211-

Landholding Agency: Air Force

Property Number: 18199530056

Status: Excess

Comment: 1627 sq. ft., 1 story concrete block, most recent use—storage

South Carolina

5 Bldgs.

Charleston AFB Annex Housing

N. Charleston SC 29404-4827

Location: 101 Vector Ave., 112, 114, 116, 118 Intercept Ave.

Landholding Agency: Air Force

Property Number: 18199830035

Status: Unutilized

Comment: 1433 sq. ft. + 345 sq. ft. carport, lead base paint/exterior most recent use—residential

1 Bldg.

Charleston AFB Annex Housing

N. Charleston SC 29404-4827

Location: 102 Vector Ave.

Landholding Agency: Air Force

Property Number: 18199830036

Status: Unutilized

Comment: 1545 sq. ft. + 345 sq. ft. carport, lead base paint/exterior most recent use—residential

1 Bldg.

Charleston AFB Annex Housing

N. Charleston SC 29404-4827

Location: 103 Vector Ave.

Landholding Agency: Air Force

Property Number: 18199830037

Status: Unutilized

Comment: 1445 sq. ft. + 346 sq. ft. carport, lead base paint/exterior most recent use—residential

18 Bldgs.

Charleston AFB Annex Housing

N. Charleston SC 29404-4827

Location: 104-107 Vector Ave., 108-111, 113, 115, 117, 119 Intercept Ave., 120-122 Radar Ave.

Landholding Agency: Air Force

Property Number: 18199830038

Status: Unutilized

Comment: 1265 sq. ft. + 353 sq. ft. carport, lead base paint/exterior most recent use—residential

Land (by State)

New York

14.90 Acres

Hancock Field

Syracuse Co: Onandaga NY 13211-

Landholding Agency: Air Force

Property Number: 18199530057

Status: Excess

Comment: Fenced in compound, most recent use—Air Natl. Guard Communication & Electronics Group

Unsuitable Properties

Buildings (by State)

Alabama

Sand Island Light House

Gulf of Mexico

Mobile AL

Landholding Agency: GSA

Property Number: 54199610001

Status: Excess

Reason: Inaccessible

GSA Number : 4-U-AL-763

Alaska

Bldg. 15532

Elmendorf AFB

Elmendorf AFB Co: AK 99506-

Landholding Agency: Air Force

Property Number: 18200220001

Status: Unutilized

Reasons: Within airport runway clear zone; Secured Area

Bldg. 8354

Elmendorf AFB

Elmendorf AFB Co: AK 99506-

Landholding Agency: Air Force

Property Number: 18200240001

Status: Unutilized

Reason: Extensive deterioration

Bldg. 11827

Elmendorf AFB

Elmendorf AFB Co: AK 99506-

Landholding Agency: Air Force

Property Number: 18200240002

Status: Unutilized

Reasons: Within 2000 ft. of flammable or explosive material; Secured Area

Fuel Tank Facility

USCG LORAN Station

Ketchikan Co: AK 99901-

Landholding Agency: DOT

Property Number: 87200310008

Status: Unutilized

Reason: Extensive deterioration

Arizona

Patrol Station

S. of U.S. Hwy 85

Gila Bend Co: AZ

Landholding Agency: GSA

Property Number: 54200230006

Status: Excess

Reason: Within airport runway clear zone

GSA Number : 9-J-AZ-821

Arkansas

Antenna Tower Site

FAA

Pine Bluff Co: Jefferson AR 71601-

Landholding Agency: GSA

Property Number: 54200210015

Status: Surplus

Reason: Secured Area

GSA Number : 7-D-AR-0558-2

California

Bldg. 30101

Vandenberg AFB

Vandenberg Co: Santa Barbara CA 93437-

Landholding Agency: Air Force

Property Number: 18200210019

Status: Unutilized

Reason: Secured Area

Bldgs. 30131, 30709

Vandenberg AFB

Vandenberg Co: Santa Barbara CA 93437-

Landholding Agency: Air Force

Property Number: 18200210020

Status: Unutilized

Reason: Secured Area

Bldgs. 30137, 30701

Vandenberg AFB

Vandenberg Co: Santa Barbara CA 93437-

Landholding Agency: Air Force

Property Number: 18200210021

Status: Unutilized

Reason: Secured Area

Bldg. 30235

Vandenberg AFB

Vandenberg Co: Santa Barbara CA 93437-

Landholding Agency: Air Force

Property Number: 18200210022

Status: Unutilized

Reason: Secured Area

Bldgs. 30238, 30446

Vandenberg AFB

Vandenberg Co: Santa Barbara CA -

Landholding Agency: Air Force

Property Number: 18200210023

Status: Unutilized

Reason: Secured Area

Bldgs. 30239, 30444

Vandenberg AFB

Vandenberg Co: Santa Barbara CA 93437-

Landholding Agency: Air Force

Property Number: 18200210024

Status: Unutilized

Reason: Secured Area

Bldgs. 30306, 30335, 30782

Vandenberg AFB

Vandenberg Co: Santa Barbara CA 93437-

Landholding Agency: Air Force

Property Number: 18200210025

Status: Unutilized

Reason: Secured Area

Bldgs. 30339, 30340, 30341

Vandenberg AFB

Vandenberg Co: Santa Barbara CA 93437-

Landholding Agency: Air Force

Property Number: 18200210026

Status: Unutilized

Reason: Secured Area

Bldg. 30447

Vandenberg AFB

Vandenberg Co: Santa Barbara CA 93437-

Landholding Agency: Air Force

Property Number: 18200210027

Status: Unutilized

Reason: Secured Area

Bldg. 30524

Vandenberg AFB

Vandenberg Co: Santa Barbara CA 93437-

Landholding Agency: Air Force

Property Number: 18200210028

Status: Unutilized

Reason: Secured Area

Bldg. 30647

Vandenberg AFB

Vandenberg Co: Santa Barbara CA 93437-

Landholding Agency: Air Force

Property Number: 18200210029

Status: Unutilized

Reason: Secured Area

Bldgs. 30710, 30717

Vandenberg AFB

Vandenberg Co: Santa Barbara CA 93437-

Landholding Agency: Air Force

Property Number: 18200210030

Status: Unutilized

Reason: Secured Area

Bldgs. 30718, 30607

Vandenberg AFB

Vandenberg Co: Santa Barbara CA 93437-

Landholding Agency: Air Force

Property Number: 18200210031

Status: Unutilized

Reason: Secured Area

Bldgs. 30722, 30735

Vandenberg AFB

Vandenberg Co: Santa Barbara CA 93437-

Landholding Agency: Air Force

Property Number: 18200210032

Status: Unutilized

Reason: Secured Area

Bldgs. 30775, 30777

Vandenberg AFB

Vandenberg Co: Santa Barbara CA 93437-

Landholding Agency: Air Force

Property Number: 18200210033

Status: Unutilized

Reason: Secured Area

Bldgs. 30830, 30837

Vandenberg AFB

Vandenberg Co: Santa Barbara CA 93437-

Landholding Agency: Air Force

Property Number: 18200210034

Status: Unutilized

Reason: Secured Area

Bldgs. 30839, 30844, 30854

Vandenberg AFB

Vandenberg Co: Santa Barbara CA 93437-

Landholding Agency: Air Force

Property Number: 18200210035

Status: Unutilized

Reason: Secured Area

Bldg. 2413

Edwards Air Force Base

Edwards AFB Co: Kern CA 93524-

Landholding Agency: Air Force

Property Number: 18200310001

Status: Unutilized

Reason: Secured Area

Bldg. 2418

Edwards Air Force Base

Edwards AFB Co: Kern CA 93524-

Landholding Agency: Air Force

Property Number: 18200310002

Status: Unutilized

Reason: Secured Area

Bldgs. M03, MO14, MO17

Sandia National Lab

Livermore Co: Alameda CA 94550-

Landholding Agency: Energy

Property Number: 41200220001

Status: Excess

Reason: Extensive deterioration

Bldg. 1232

Marine Corps Base

Camp Pendleton Co: CA 92055-

Landholding Agency: Navy

Property Number: 77200310036

Status: Excess

Reason: Extensive deterioration

Bldg. 2297

Marine Corps Base

Camp Pendleton Co: CA 92055-

Landholding Agency: Navy

Property Number: 77200310037

Status: Excess

Reason: Extensive deterioration

Bldg. 25037

Marine Corps Base

Camp Pendleton Co: CA 92055-

Landholding Agency: Navy

Property Number: 77200310038

Status: Excess

Reason: Extensive deterioration

Bldg. 25168

Marine Corps Base

Camp Pendleton Co: CA 92055-

Landholding Agency: Navy

Property Number: 77200310039

Status: Excess

Reason: Extensive deterioration

Bldg. 31339

Marine Corps Base

Camp Pendleton Co: CA 92055-

Landholding Agency: Navy

Property Number: 77200310040

Status: Excess

Reason: Extensive deterioration

Bldg. 31350

Marine Corps Base

Camp Pendleton Co: CA 92055-

Landholding Agency: Navy

Property Number: 77200310041

Status: Excess

Reason: Extensive deterioration

Bldg. 31628

Marine Corps Base

Camp Pendleton Co: CA 92055-

Landholding Agency: Navy

Property Number: 77200310042

Status: Excess

Reason: Extensive deterioration

Bldg. 31629

Marine Corps Base

Camp Pendleton Co: CA 92055-

Landholding Agency: Navy

Property Number: 77200310043

Status: Excess

Reason: Extensive deterioration

Bldg. 31753

Marine Corps Base

Camp Pendleton Co: CA 92055-

Landholding Agency: Navy

Property Number: 77200310044

Status: Excess

Reason: Extensive deterioration

Bldg. 31754

Marine Corps Base

Camp Pendleton Co: CA 92055-

Landholding Agency: Navy

Property Number: 77200310045

Status: Excess

Reason: Extensive deterioration

Bldg. 31764

Marine Corps Base

Camp Pendleton Co: CA 92055-

Landholding Agency: Navy

Property Number: 77200310046

Status: Unutilized

Reason: Extensive deterioration

Bldg. 52540

Marine Corps Base

Camp Pendleton Co: CA 92055-

Landholding Agency: Navy

Property Number: 77200310047

Status: Excess

Reason: Extensive deterioration

Bldg. 220178

Marine Corps Base

Camp Pendleton Co: CA 92055-

Landholding Agency: Navy

Property Number: 77200310048

Status: Excess

Reason: Extensive deterioration

Bldg. 232

Naval Air Facility

El Centro Co: CA 92243-

Landholding Agency: Navy

Property Number: 77200310055

Status: Unutilized

Reason: Extensive deterioration

Colorado

Bldg. 105

Peterson AFB

Colorado Springs Co: El Paso CO 80914-

Landholding Agency: Air Force

Property Number: 18200310003

Status: Underutilized

Reasons: Within airport runway clear zone;

Secured Area

Bldg. 34

Grand Junction Projects Office

Grand Junction Co: Mesa CO 81503-

Landholding Agency: Energy

Property Number: 41199540001

Status: Underutilized

Reasons: Contamination; Secured Area

Bldg. 35

Grand Junction Projects Office

Grand Junction Co: Mesa CO 81503-

Landholding Agency: Energy

Property Number: 41199540002

Status: Underutilized

Reasons: Contamination; Secured Area

Bldg. 36

Grand Junction Projects Office

Grand Junction Co: Mesa CO 81503-

Landholding Agency: Energy

Property Number: 41199540003

Status: Underutilized

Reasons: Contamination; Secured Area

Bldg. 2

Grand Junction Projects Office

Grand Junction Co: Mesa CO 81503-

Landholding Agency: Energy

Property Number: 41199610039

Status: Unutilized

Reasons: Contamination; Secured Area

Bldg. 7

Grand Junction Projects Office

Grand Junction Co: Mesa CO 81503-

Landholding Agency: Energy

Property Number: 41199610040

Status: Unutilized

Reasons: Contamination; Secured Area

Bldg. 31-A

Grand Junction Projects Office

Grand Junction Co: Mesa CO 81503-

Landholding Agency: Energy

Property Number: 41199610041

Status: Unutilized

Reasons: Contamination; Secured Area

Bldg. 33

Grand Junction Projects Office

Grand Junction Co: Mesa CO 81503-

Landholding Agency: Energy

Property Number: 41199610042

Status: Unutilized

Reasons: Contamination; Secured Area

Bldg. 727

Rocky Flats Environmental Tech Site

Golden Co: Jefferson CO 80020-

Landholding Agency: Energy

Property Number: 41199910001

Status: Unutilized

Reasons: Within 2000 ft. of flammable or explosive material; Secured Area

Bldg. 729

Rocky Flats Environmental Tech Site

Golden Co: Jefferson CO 80020-

Landholding Agency: Energy

Property Number: 41199910002

Status: Unutilized

Reasons: Within 2000 ft. of flammable or explosive material; Secured Area

Bldg. 779

Rocky Flats Environmental Tech Site

Golden Co: Jefferson CO 80020-

Landholding Agency: Energy

Property Number: 41199910003

Status: Unutilized

Reasons: Within 2000 ft. of flammable or explosive material; Secured Area

Bldg. 780

Rocky Flats Environmental Tech Site

Golden Co: Jefferson CO 80020-

Landholding Agency: Energy

Property Number: 41199910004

Status: Unutilized

Reasons: Within 2000 ft. of flammable or explosive material; Secured Area

Bldg. 780A

Rocky Flats Environmental Tech Site

Golden Co: Jefferson CO 80020-

Landholding Agency: Energy

Property Number: 41199910005

Status: Unutilized

Reasons: Within 2000 ft. of flammable or explosive material; Secured Area

Bldg. 780B

Rocky Flats Environmental Tech Site

Golden Co: Jefferson CO 80020-

Landholding Agency: Energy

Property Number: 41199910006

Status: Unutilized

Reasons: Within 2000 ft. of flammable or explosive material; Secured Area

Bldg. 782

Rocky Flats Environmental Tech Site

Golden Co: Jefferson CO 80020-

Landholding Agency: Energy

Property Number: 41199910007

Status: Unutilized

Reasons: Within 2000 ft. of flammable or explosive material; Secured Area

Bldg. 783

Rocky Flats Environmental Tech Site

Golden Co: Jefferson CO 80020-

Landholding Agency: Energy

Property Number: 41199910008

Status: Unutilized

Reasons: Within 2000 ft. of flammable or explosive material; Secured Area

Bldg. 784(A-D)

Rocky Flats Environmental Tech Site

Golden Co: Jefferson CO 80020-

Landholding Agency: Energy

Property Number: 41199910009

Status: Unutilized

Reasons:

Within 2000 ft. of flammable or explosive material; Secured Area

Bldg. 785

Rocky Flats Environmental Tech Site

Golden Co: Jefferson CO 80020-

Landholding Agency: Energy

Property Number: 41199910010

Status: Unutilized

Reasons: Within 2000 ft. of flammable or explosive material; Secured Area

Bldg. 786

Rocky Flats Environmental Tech Site

Golden Co: Jefferson CO 80020-

Landholding Agency: Energy

Property Number: 41199910011

Status: Unutilized

Reasons: Within 2000 ft. of flammable or explosive material; Secured Area

Bldg. 787(A-D)

Rocky Flats Environmental Tech Site

Golden Co: Jefferson CO 80020-

Landholding Agency: Energy

Property Number: 41199910012

Status: Unutilized

Reasons: Within 2000 ft. of flammable or explosive material; Secured Area

Bldg. 875

Rocky Flats Environmental Tech Site

Golden Co: Jefferson CO 80020-

Landholding Agency: Energy

Property Number: 41199910013

Status: Unutilized

Reasons: Within 2000 ft. of flammable or explosive material; Secured Area

Bldg. 880

Rocky Flats Environmental Tech Site

Golden Co: Jefferson CO 80020-

Landholding Agency: Energy

Property Number: 41199910014

Status: Unutilized

Reasons: Within 2000 ft. of flammable or explosive material; Secured Area

Bldg. 886

Rocky Flats Environmental Tech Site

Golden Co: Jefferson CO 80020-

Landholding Agency: Energy

Property Number: 41199910015

Status: Unutilized

Reasons: Within 2000 ft. of flammable or explosive material; Secured Area

Bldg. 308A

Rocky Flats Env. Tech. Site

Golden Co: Jefferson CO 80020-

Landholding Agency: Energy

Property Number: 41199910016

Status: Unutilized

Reasons: Within 2000 ft. of flammable or explosive material; Secured Area

Bldg. 788

Rocky Flats Env. Tech. Site

Golden Co: Jefferson CO 80020-

Landholding Agency: Energy

Property Number: 41199910017

Status: Underutilized

Reasons: Within 2000 ft. of flammable or explosive material; Secured Area

Bldg. 888

Rocky Flats Environmental Tech Site

Golden Co: Jefferson CO 80020-

Landholding Agency: Energy

Property Number: 41199930001

Status: Unutilized

Reasons: Within 2000 ft. of flammable or explosive material; Secured Area

Bldg. 714 A/B

Rocky Flats Env. Tech Site

Golden Co: Jefferson CO 80020-

Landholding Agency: Energy

Property Number: 41199930021

Status: Underutilized

Reasons: Within 2000 ft. of flammable or explosive material; Secured Area

Bldg. 717

Rocky Flats Env. Tech Site

Golden Co: Jefferson CO 80020-

Landholding Agency: Energy

Property Number: 41199930022

Status: Underutilized

Reasons: Within 2000 ft. of flammable or explosive material; Secured Area

Bldg. 770

Rocky Flats Env. Tech Site

Golden Co: Jefferson CO 80020-

Landholding Agency: Energy

Property Number: 41199930023

Status: Underutilized

Reasons: Within 2000 ft. of flammable or explosive material; Secured Area

Bldg. 771

Rocky Flats Env. Tech Site

Golden Co: Jefferson CO 80020-

Landholding Agency: Energy

Property Number: 41199930024

Status: Underutilized

Reasons: Within 2000 ft. of flammable or explosive material; Secured Area

Bldg. 771B

Rocky Flats Env. Tech Site

Golden Co: Jefferson CO 80020-

Landholding Agency: Energy

Property Number: 41199930025

Status: Underutilized

Reasons: Within 2000 ft. of flammable or explosive material; Secured Area

Bldg. 771C

Rocky Flats Env. Tech Site

Golden Co: Jefferson CO 80020-

Landholding Agency: Energy

Property Number: 41199930026

Status: Underutilized

Reasons: Within 2000 ft. of flammable or explosive material; Secured Area

Bldg. 772-772A

Rocky Flats Env. Tech Site

Golden Co: Jefferson CO 80020-

Landholding Agency: Energy

Property Number: 41199930027

Status: Underutilized

Reasons: Within 2000 ft. of flammable or explosive material; Secured Area

Bldg. 773

Rocky Flats Env. Tech Site

Golden Co: Jefferson CO 80020-

Landholding Agency: Energy

Property Number: 41199930028

Status: Underutilized

Reasons: Within 2000 ft. of flammable or explosive material; Secured Area

Bldg. 774

Rocky Flats Env. Tech Site

Golden Co: Jefferson CO 80020-

Landholding Agency: Energy

Property Number: 41199930029

Status: Underutilized

Reasons: Within 2000 ft. of flammable or explosive material; Secured Area

Bldg. 776

Rocky Flats Environmental Tech Site

Golden Co: Jefferson CO 80020-Landholding Agency: Energy

Property Number: 41200010001

Status: Excess

Reasons: Within 2000 ft. of flammable or explosive material; Secured Area

Bldg. 777

Rocky Flats Environmental Tech Site

Golden Co: Jefferson CO 80020-

Landholding Agency: Energy

Property Number: 41200010002

Status: Excess

Reasons: Within 2000 ft. of flammable or explosive material; Secured Area

Bldg. 778

Rocky Flats Environmental Tech Site

Golden Co: Jefferson CO 80020-

Landholding Agency: Energy

Property Number: 41200010003

Status: Excess

Reasons: Within 2000 ft. of flammable or explosive material; Secured Area

Structure 712-712A

Rocky Flats Environmental Tech Site

Golden Co: Jefferson CO 80020-

Landholding Agency: Energy

Property Number: 41200010004

Status: Excess

Reasons: Within 2000 ft. of flammable or explosive material; Secured Area

Structure 713-713A

Rocky Flats Environmental Tech Site

Golden Co: Jefferson CO 80020-

Landholding Agency: Energy

Property Number: 41200010005

Status: Excess

Reasons: Within 2000 ft. of flammable or explosive material; Secured Area

Structure 771 TUN

Rocky Flats Environmental Tech Site

Golden Co: Jefferson CO 80020-

Landholding Agency: Energy

Property Number: 41200010006

Status: Excess

Reasons: Within 2000 ft. of flammable or explosive material; Secured Area

Structure 776A-781

Rocky Flats Environmental Tech Site

Golden Co: Jefferson CO 80020-

Landholding Agency: Energy

Property Number: 41200010007

Status: Excess

Reasons: Within 2000 ft. of flammable or explosive material; Secured Area

Bldgs. 111, 111B

Rocky Flats Env. Tech Site

Golden Co: Jefferson CO 80020-

Landholding Agency: Energy

Property Number: 41200030001

Status: Excess

Reasons: Within 2000 ft. of flammable or explosive material; Secured Area

Bldg. 125

Rocky Flats Env. Tech. Site

Golden Co: Jefferson CO 80020-

Landholding Agency: Energy

Property Number: 41200120001

Status: Excess

Reasons: Within 2000 ft. of flammable or explosive material; Secured Area

Bldg. 333

Rocky Flats Env. Tech. Site

Golden Co: Jefferson CO 80020-

Landholding Agency: Energy

Property Number: 41200120002

Status: Excess

Reasons: Within 2000 ft. of flammable or explosive material; Secured Area

Bldg. 762

Rocky Flats Env. Tech Site

Golden Co: Jefferson CO 80020-

Landholding Agency: Energy

Property Number: 41200120003

Status: Excess

Reasons: Within 2000 ft. of flammable or explosive material

Secured Area

Bldg. 762A

Rocky Flats Env. Tech Site

Golden Co: Jefferson CO 80020-

Landholding Agency: Energy

Property Number: 41200120004

Status: Excess

Reasons: Within 2000 ft. of flammable or explosive material; Secured Area

Bldg. 792

Rocky Flats Env. Tech Site

Golden Co: Jefferson CO 80020-

Landholding Agency: Energy

Property Number: 41200120005

Status: Excess

Reasons: Within 2000 ft. of flammable or explosive material; Secured Area

Bldg. 792A

Rocky Flats Env. Tech Site

Golden Co: Jefferson CO 80020-

Landholding Agency: Energy

Property Number: 41200120006

Status: Excess

Reasons: Within 2000 ft. of flammable or explosive material; Secured Area

Bldgs. 124, 129

Rocky Flats Env. Tech. Site

Golden Co: Jefferson CO 80020-

Landholding Agency: Energy

Property Number: 41200220002

Status: Excess

Reasons: Within 2000 ft. of flammable or explosive material; Secured Area

Bldgs. 371, 374, 374A

Rocky Flats Env. Tech. Site

Golden Co: Jefferson CO 80020-

Landholding Agency: Energy

Property Number: 41200220003

Status: Excess

Reasons: Within 2000 ft. of flammable or explosive material; Secured Area

Bldgs. 376-378, 381

Rocky Flats Env. Tech. Site

Golden Co: Jefferson CO 80020-

Landholding Agency: Energy

Property Number: 41200220004

Status: Excess

Reasons: Within 2000 ft. of flammable or explosive material; Secured Area

Bldgs. 441-443, 452

Rocky Flats Env. Tech. Site

Golden Co: Jefferson CO 80020-

Landholding Agency: Energy

Property Number: 41200220005

Status: Excess

Reasons: Within 2000 ft. of flammable or explosive material; Secured Area

Bldgs. 557, 559

Rocky Flats Env. Tech. Site

Golden Co: Jefferson CO 80020-

Landholding Agency: Energy

Property Number: 41200220006

Status: Excess

Reasons: Within 2000 ft. of flammable or explosive material; Secured Area

Bldgs. 561, 562

Rocky Flats Env. Tech. Site

Golden Co: Jefferson CO 80020-

Landholding Agency: Energy

Property Number: 41200220007

Status: Excess

Reasons:

Within 2000 ft. of flammable or explosive material; Secured Area

Bldgs. 564, 566/A, 569

Rocky Flats Env. Tech. Site

Golden Co: Jefferson CO 80020-

Landholding Agency: Energy

Property Number: 41200220008

Status: Excess

Reasons: Within 2000 ft. of flammable or explosive material; Secured Area

Bldgs. 662, 663

Rocky Flats Env. Tech. Site

Golden Co: Jefferson CO 80020-

Landholding Agency: Energy

Property Number: 41200220009

Status: Excess

Reasons: Within 2000 ft. of flammable or explosive material; Secured Area

Bldgs. 666, 681

Rocky Flats Env. Tech. Site

Golden Co: Jefferson CO 80020-

Landholding Agency: Energy

Property Number: 41200220010

Status: Excess

Reasons: Within 2000 ft. of flammable or explosive material; Secured Area

Bldgs. 701, 705-708

Rocky Flats Env. Tech. Site

Golden Co: Jefferson CO 80020-

Landholding Agency: Energy

Property Number: 41200220011

Status: Excess

Reasons: Within 2000 ft. of flammable or explosive material; Secured Area

Bldgs. 714, 715, 718

Rocky Flats Env. Tech. Site

Golden Co: Jefferson CO 80020-

Landholding Agency: Energy

Property Number: 41200220012

Status: Excess

Reasons: Within 2000 ft. of flammable or explosive material

Secured Area

Bldgs. 731, 732

Rocky Flats Env. Tech. Site

Golden Co: Jefferson CO 80020-

Landholding Agency: Energy

Property Number: 41200220013

Status: Excess

Reasons: Within 2000 ft. of flammable or explosive material; Secured Area

Bldgs. 750, 763-765

Rocky Flats Env. Tech. Site

Golden Co: Jefferson CO 80020-

Landholding Agency: Energy

Property Number: 41200220014

Status: Excess

Reasons: Within 2000 ft. of flammable or explosive material; Secured Area

Bldgs. 778, 790

Rocky Flats Env. Tech. Site

Golden Co: Jefferson CO 80020-

Landholding Agency: Energy

Property Number: 41200220015

Status: Excess

Reasons: Within 2000 ft. of flammable or explosive material; Secured Area

Bldgs. 850, 864-865

Rocky Flats Env. Tech. Site

Golden Co: Jefferson CO 80020-

Landholding Agency: Energy

Property Number: 41200220016

Status: Excess

Reasons: Within 2000 ft. of flammable or explosive material; Secured Area

Bldgs. 869, 879

Rocky Flats Env. Tech. Site

Golden Co: Jefferson CO 80020-

Landholding Agency: Energy

Property Number: 41200220017

Status: Excess

Reasons: Within 2000 ft. of flammable or explosive material; Secured Area

Bldgs. 881, 881F, 881H

Rocky Flats Env. Tech. Site

Golden Co: Jefferson CO 80020-

Landholding Agency: Energy

Property Number: 41200220018

Status: Excess

Reasons: Within 2000 ft. of flammable or explosive material; Secured Area

Bldgs. 883-885, 887

Rocky Flats Env. Tech. Site

Golden Co: Jefferson CO 80020-

Landholding Agency: Energy

Property Number: 41200220019

Status: Excess

Reasons: Within 2000 ft. of flammable or explosive material; Secured Area

Bldg. 891

Rocky Flats Env. Tech. Site

Golden Co: Jefferson CO 80020-

Landholding Agency: Energy

Property Number: 41200220020

Status: Excess

Reasons: Within 2000 ft. of flammable or explosive material; Secured Area

Bldgs. 906, 991, 995

Rocky Flats Env. Tech. Site

Golden Co: Jefferson CO 80020-

Landholding Agency: Energy

Property Number: 41200220021

Status: Excess

Reasons: Within 2000 ft. of flammable or explosive material; Secured Area

Connecticut

Bldgs. 25 and 26

Prospect Hill Road

Windsor Co: Hartford CT 06095-

Landholding Agency: Energy

Property Number: 41199440003

Status: Excess

Reason: Secured Area

9 Bldgs.

Knolls Atomic Power Lab, Windsor Site

Windsor Co: Hartford CT 06095-

Landholding Agency: Energy

Property Number: 41199540004

Status: Excess

Reason: Secured Area

Bldg. 8, Windsor Site

Knolls Atomic Power Lab

Windsor Co: Hartford CT 06095-

Landholding Agency: Energy

Property Number: 41199830006

Status: Unutilized

Reason: Extensive deterioration

Florida

Bldg. 1345

Cape Canaveral AFS

Cape Canaveral Co: Brevard FL 32907-

Landholding Agency: Air Force

Property Number: 18200210016

Status: Unutilized

Reasons: Within 2000 ft. of flammable or explosive material; Secured Area

Bldg. 24451

Cape Canaveral AFS

Cape Canaveral Co: Brevard FL 32907-

Landholding Agency: Air Force

Property Number: 18200210017

Status: Unutilized

Reasons: Within 2000 ft. of flammable or explosive material; Secured Area

Bldg. 55122

Cape Canaveral AFS

Cape Canaveral Co: Brevard FL 32907-

Landholding Agency: Air Force

Property Number: 18200210018

Status: Unutilized

Reasons: Within 2000 ft. of flammable or explosive material; Secured Area

U.S. Customs House

1700 Spangler Boulevard

Hollywood Co: Broward FL 33316-

Landholding Agency: GSA

Property Number: 54200140012

Status: Surplus

Reasons: Within 2000 ft. of flammable or explosive material; Secured Area

GSA Number: 4-G-FL-1173

U.S. Classic Courthouse

601 N. Florida Ave

Tampa Co: FL 33602-

Landholding Agency: GSA

Property Number: 54200240018

Status: Excess

Reason: Contamination—toxic mold

GSA Number: 4-G-FL-1208-1A

Georgia

Bldg. 14

Naval Air Station

Marietta Co: Cobb GA 30060-

Landholding Agency: Navy

Property Number: 77200310049

Status: Unutilized

Reasons: Within airport runway clear zone; Secured Area

Extensive deterioration

Bldg. 15

Naval Air Station

Marietta Co: Cobb GA 30060-

Landholding Agency: Navy

Property Number: 77200310050

Status: Unutilized

Reasons: Within airport runway clear zone; Secured Area; Extensive deterioration

Bldg. 109

Naval Air Station

Marietta Co: Cobb GA 30060-

Landholding Agency: Navy

Property Number: 77200310051

Status: Unutilized

Reasons: Secured Area; Extensive deterioration

Hawaii

13 Administrative Facilities

Johnston Atoll Airfield

Honolulu Co: HI

Landholding Agency: Air Force

Property Number: 18200230019

Status: Unutilized

Reasons: Within 2000 ft. of flammable or explosive material; Within airport runway clear zone

7 Bunkers

Johnston Atoll Airfield

Honolulu Co: HI

Landholding Agency: Air Force

Property Number: 18200230020

Status: Unutilized

Reasons: Within 2000 ft. of flammable or explosive material; Within airport runway clear zone

64 Storage Igloos

Johnston Atoll Airfield

Honolulu Co: HI

Landholding Agency: Air Force

Property Number: 18200230021

Status: Unutilized

Reasons: Within 2000 ft. of flammable or explosive material; Within airport runway clear zone

38 Quarters

Johnston Atoll Airfield

Honolulu Co: HI

Landholding Agency: Air Force

Property Number: 18200230022

Status: Unutilized

Reasons: Within 2000 ft. of flammable or explosive material; Within airport runway clear zone

108 Misc. Facilities

Johnston Atoll Airfield

Honolulu Co: HI

Landholding Agency: Air Force

Property Number: 18200230023

Status: Unutilized

Reasons: Within 2000 ft. of flammable or explosive material; Within airport runway clear zone

5 Outer Island Bldgs.

Johnston Atoll Airfield

Honolulu Co: HI

Landholding Agency: Air Force

Property Number: 18200230024

Status: Unutilized

Reasons: Within 2000 ft. of flammable or explosive material; Within airport runway clear zone

37 Shops

Johnston Atoll Airfield

Honolulu Co: HI

Landholding Agency: Air Force

Property Number: 18200230025

Status: Unutilized

Reasons: Within 2000 ft. of flammable or explosive material; Within airport runway clear zone

46 Warehouses

Johnston Atoll Airfield

Honolulu Co: HI

Landholding Agency: Air Force

Property Number: 18200230026

Status: Unutilized

Reasons: Within 2000 ft. of flammable or explosive material; Within airport runway clear zone

Bldg. 348

Pacific Missile Range Facility

Kekaha Co: Kauai HI 96752-

Landholding Agency: Navy

Property Number: 77200310052

Status: Unutilized

Reasons: Secured Area; Extensive deterioration

Bldg. 1G

Naval Shipyard

Pearl Harbor Co: Honolulu HI 96860-5350

Landholding Agency: Navy

Property Number: 77200310056

Status: Excess

Reason: Secured Area

Bldg. 27

Naval Shipyard

Pearl Harbor Co: Honolulu HI 96860-5350

Landholding Agency: Navy

Property Number: 77200310057

Status: Excess

Reasons: Secured Area; Extensive deterioration

Idaho

Bldg. 1328

Mountain Home AFB

Mountain Home Co: Elmore ID 83648-

Landholding Agency: Air Force

Property Number: 18200240003

Status: Excess

Reason: Within 2000 ft. of flammable or explosive material

Bldg. PBF-621

Idaho National Engineering Laboratory

Scoville Co: Butte ID 83415-

Landholding Agency: Energy

Property Number: 41199610001

Status: Unutilized

Reason: Secured Area

Bldg. CPP-691

Idaho National Engineering Laboratory

Scoville Co: Butte ID 83415-

Landholding Agency: Energy

Property Number: 41199610003

Status: Unutilized

Reason: Secured Area

Bldg. CPP-625

Idaho National Engineering Laboratory

Scoville Co: Butte ID 83415-

Landholding Agency: Energy

Property Number: 41199610004

Status: Unutilized

Reason: Secured Area

Bldg. CPP-650

Idaho National Engineering Laboratory

Scoville Co: Butte ID 83415-

Landholding Agency: Energy

Property Number: 41199610005

Status: Unutilized

Reason: Secured Area

Bldg. CPP-608

Idaho National Engineering Laboratory

Scoville Co: Butte ID 83415-

Landholding Agency: Energy

Property Number: 41199610006

Status: Unutilized

Reason: Secured Area

Bldg. TAN-660

Idaho National Engineering Laboratory

Scoville Co: Butte ID 83415-

Landholding Agency: Energy

Property Number: 41199610007

Status: Unutilized

Reason: Secured Area

Bldg. TAN-636

Idaho National Engineering Laboratory

Scoville Co: Butte ID 83415-

Landholding Agency: Energy

Property Number: 41199610008

Status: Unutilized

Reason: Secured Area

Bldg. TAN-609

Idaho National Engineering Laboratory

Scoville Co: Butte ID 83415-

Landholding Agency: Energy

Property Number: 41199610009

Status: Unutilized

Reason: Secured Area

Bldg. TAN-670

Idaho National Engineering Laboratory

Scoville Co: Butte ID 83415-

Landholding Agency: Energy

Property Number: 41199610010

Status: Unutilized

Reason: Secured Area

Bldg. TAN-661

Idaho National Engineering Laboratory

Scoville Co: Butte ID 83415-

Landholding Agency: Energy

Property Number: 41199610011

Status: Unutilized

Reason: Secured Area

Bldg. TAN-657

Idaho National Engineering Laboratory

Scoville Co: Butte ID 83415-

Landholding Agency: Energy

Property Number: 41199610012

Status: Unutilized

Reason: Secured Area

Bldg. TRA-669

Idaho National Engineering Laboratory

Scoville Co: Butte ID 83415-

Landholding Agency: Energy

Property Number: 41199610013

Status: Unutilized

Reason: Secured Area

Bldg. TAN-637

Idaho National Engineering Laboratory

Scoville Co: Butte ID 83415-

Landholding Agency: Energy

Property Number: 41199610014

Status: Unutilized

Reason: Secured Area

Bldg. TAN-635

Idaho National Engineering Laboratory

Scoville Co: Butte ID 83415-

Landholding Agency: Energy

Property Number: 41199610015

Status: Unutilized

Reason: Secured Area

Bldg. TAN-638

Idaho National Engineering Laboratory

Scoville Co: Butte ID 83415-

Landholding Agency: Energy

Property Number: 41199610016

Status: Unutilized

Reason: Secured Area

Bldg. TAN-651

Idaho National Engineering Laboratory

Scoville Co: Butte ID 83415-

Landholding Agency: Energy

Property Number: 41199610017

Status: Unutilized

Reason: Secured Area

Bldg. TRA-673

Idaho National Engineering Laboratory

Scoville Co: Butte ID 83415-

Landholding Agency: Energy

Property Number: 41199610018

Status: Unutilized

Reason: Secured Area

Bldg. PBF-620

Idaho National Engineering Laboratory

Scoville Co: Butte ID 83415-

Landholding Agency: Energy

Property Number: 41199610019

Status: Unutilized

Reason: Secured Area

Bldg. PBF-616

Idaho National Engineering Laboratory

Scoville Co: Butte ID 83415-

Landholding Agency: Energy

Property Number: 41199610020

Status: Unutilized

Reason: Secured Area

Bldg. PBF-617

Idaho National Engineering Laboratory

Scoville Co: Butte ID 83415-

Landholding Agency: Energy

Property Number: 41199610021

Status: Unutilized

Reason: Secured Area

Bldg. PBF-619

Idaho National Engineering Laboratory

Scoville Co: Butte ID 83415-

Landholding Agency: Energy

Property Number: 41199610022

Status: Unutilized

Reason: Secured Area

Bldg. PBF-624

Idaho National Engineering Laboratory

Scoville Co: Butte ID 83415-

Landholding Agency: Energy

Property Number: 41199610023

Status: Unutilized

Reason: Secured Area

Bldg. PBF-625

Idaho National Engineering Laboratory

Scoville Co: Butte ID 83415-

Landholding Agency: Energy

Property Number: 41199610024

Status: Unutilized

Reason: Secured Area

Bldg. PBF-629

Idaho National Engineering Laboratory

Scoville Co: Butte ID 83415-

Landholding Agency: Energy

Property Number: 41199610025

Status: Unutilized

Reason: Secured Area

Bldg. PBF-604

Idaho National Engineering Laboratory

Scoville Co: Butte ID 83415-

Landholding Agency: Energy

Property Number: 41199610026

Status: Unutilized

Reason: Secured Area

Bldg. TRA-641

Idaho National Engineering Laboratory

Scoville Co: Butte ID 83415-

Landholding Agency: Energy

Property Number: 41199610034

Status: Unutilized

Reason: Secured Area

Bldg. CF-606

Idaho National Engineering Laboratory

Scoville Co: Butte ID 83415-

Landholding Agency: Energy

Property Number: 41199610037

Status: Unutilized

Reason: Secured Area

TAN 602, 631, 663, 702, 724

Idaho Natl Engineering & Environmental Lab

Test Area North

Scovile Co: Butte ID 83415-

Landholding Agency: Energy

Property Number: 41199830002

Status: Excess

Reasons: Within 2000 ft., of flammable or explosive material; Secured Area; Extensive deterioration

8 Bldgs.

Idaho Natl Engineering & Environmental Lab Test Reactor North

Scovile Co: Butte ID 83415-

Location: TRA 643, 644, 655, 660, 704-706, 755

Landholding Agency: Energy

Property Number: 41199830003

Status: Excess

Reasons: Within 2000 ft. of flammable or explosive material; Secured Area

Illinois

Navy Family Housing 18-units

Hanna City Co: Peoria IL 61536-

Landholding Agency: GSA

Property Number: 54199940018

Status: Excess

Reason: Within 2000 ft. of flammable or explosive material

GSA Number : 1-N-IL-723

Kansas

Sunflower AAP

DeSoto Co: Johnson KS 66018-

Landholding Agency: GSA

Property Number: 54199830010

Status: Excess

Reason: Extensive deterioration

GSA Number: 7-D-KS-0581

Louisiana

Weeks Island Facility

New Iberia Co: Iberia Parish LA 70560-

Landholding Agency: Energy

Property Number: 41199610038

Status: Underutilized

Reason: Secured Area

Maine

Sound Signal Station

Manana Island

Manana Island Co: ME

Landholding Agency: GSA

Property Number: 54200210008

Status: Excess

Reason: Inaccessible

GSA Number: 1-U-ME-646B

Maryland

Stillpond Station

Coast Guard Station

Stillpond Neck Road

Worton Co: Kent MD 21678-

Landholding Agency: GSA

Property Number: 54200230015

Status: Excess

Reason: Within 2000 ft. of flammable or explosive material

GSA Number: 4-U-MD-607

Massachusetts

Wayland Army Natl Guard Fac.

Oxbow Road

Wayland Co: MA 01778-

Landholding Agency: GSA

Property Number: 54200240007

Status: Excess

Reason: Extensive deterioration

GSA Number: 1-D-MA-0725

USCG Boat House

Point Allerton

Windmill Point Co: Hull MA

Landholding Agency: GSA

Property Number: 54200310019

Status: Excess

Reason: Extensive deterioration

GSA Number: 1-U-MA-863

Michigan

Bldg. 550

Selfridge Outer Marker Site

Selfridge ANGB Co: Macomb MI 48045-5295

Landholding Agency: Air Force

Property Number: 18200230017

Status: Unutilized

Reason: Extensive deterioration

Facilities 90004, 911146

Selfridge Outer Marker Site

Selfridge ANGB Co: Macomb MI 48045-5295

Landholding Agency: Air Force

Property Number: 18200230018

Status: Unutilized

Reason: Extensive deterioration

Bldg. 3

Alpena CRTC

Alpena Co: MI 49707-

Landholding Agency: Air Force

Property Number: 18200230027

Status: Unutilized

Reason: Secured Area

Bldgs. 10, 15

Alpena CRTC

Alpena Co: MI 49707-

Landholding Agency: Air Force

Property Number: 18200230028

Status: Unutilized

Reason: Secured Area

Bldgs. 31, 33, 38

Alpena CRTC

Alpena Co: MI 49707-

Landholding Agency: Air Force

Property Number: 18200230029

Status: Unutilized

Reason: Secured Area

Bldg. 44

Alpena CRTC

Alpena Co: MI 49707-

Landholding Agency: Air Force

Property Number: 18200230030

Status: Unutilized

Reason: Secured Area

Bldg. 53

Alpena CRTC

Alpena Co: MI 49707-

Landholding Agency: Air Force

Property Number: 18200230031

Status: Unutilized

Reason: Secured Area

Bldg. 219

Alpena CRTC

Alpena Co: MI 49707-

Landholding Agency: Air Force

Property Number: 18200230032

Status: Unutilized

Reason: Secured Area

Bldgs. 302, 304, 305

Alpena CRTC

Alpena Co: MI 49707-

Landholding Agency: Air Force

Property Number: 18200230033

Status: Unutilized

Reason: Secured Area

Bldg. 321

Alpena CRTC

Alpena Co: MI 49707-

Landholding Agency: Air Force

Property Number: 18200230034

Status: Unutilized

Reason: Secured Area

Bldgs. 330-333

Alpena CRTC

Alpena Co: MI 49707-

Landholding Agency: Air Force

Property Number: 18200230035

Status: Unutilized

Reason: Secured Area

Bldgs. 402, 414

Alpena CRTC

Alpena Co: MI 49707-

Landholding Agency: Air Force

Property Number: 18200230036

Status: Unutilized

Reason: Secured Area

Bldg. 4020

Alpena CRTC

Alpena Co: MI 49707-

Landholding Agency: Air Force

Property Number: 18200230037

Status: Unutilized

Reason: Secured Area

Navy Housing

64 Barberry Drive

Springfield Co: Calhoun MI 49015-

Landholding Agency: GSA

Property Number: 54200020013

Status: Excess

Reason: Within 2000 ft. of flammable or explosive material

GSA Number: 1-N-MI-795

Stroh Army Reserve Center

17825 Sherwood Ave.

Detroit Co: Wayne MI 00000-

Landholding Agency: GSA

Property Number: 54200040001

Status: Surplus

Reason: Within 2000 ft. of flammable or explosive material

GSA Number: 1-D-MI-798

Minnesota

Naval Ind. Rsv Ordnance Plant

Minneapolis Co: MN 55421-1498

Landholding Agency: GSA

Property Number: 54199930004

Status: Excess

Reason: Within 2000 ft. of flammable or explosive material

GSA Number: 1-N-MN-570

Nike Battery Site, MS-40

Castle Rock Township

Farmington Co: Dakota MN 00000-

Landholding Agency: GSA

Property Number: 54200020004

Status: Surplus

Reason: Within 2000 ft. of flammable or explosive material

GSA Number : 1-I-MN-451-B

Parcel B

Twin Cities Army Ammunition Plant

Arden Hills Co: MN 55112-3938

Landholding Agency: GSA

Property Number: 54200240015

Status: Excess

Reason: Within 2000 ft. of flammable or explosive material

GSA Number: 1-D-MN-0578B

Montana

Bldg. 347

Malmstrom AFB

Malmstrom AFB Co: Cascade MT 59402-

Landholding Agency: Air Force

Property Number: 18200220011

Status: Unutilized

Reasons: Within 2000 ft. of flammable or explosive material; Secured Area

Bldg. 3064

Malmstrom AFB

Malmstrom AFB Co: Cascade MT 59402-

Landholding Agency: Air Force

Property Number: 18200220013

Status: Unutilized

Reasons: Within 2000 ft. of flammable or explosive material; Secured Area

Bldg. 547

Malmstrom AFB

Malmstrom AFB Co: Cascade MT 59402-

Landholding Agency: Air Force

Property Number: 18200240004

Status: Unutilized

Reasons: Within 2000 ft. of flammable or explosive material; Secured Area

Bldg. 769

Malmstrom AFB

Malmstrom AFB Co: Cascade MT 59402-

Landholding Agency: Air Force

Property Number: 18200240005

Status: Unutilized

Reasons: Within 2000 ft. of flammable or explosive material; Secured Area

Bldg. 1084

Malmstrom AFB

Malmstrom AFB Co: Cascade MT 59402-

Landholding Agency: Air Force

Property Number: 18200240006

Status: Unutilized

Reasons: Within 2000 ft. of flammable or explosive material; Secured Area

Bldg. 2025

Malmstrom AFB

Malmstrom AFB Co: Cascade MT 59402-

Landholding Agency: Air Force

Property Number: 18200240007

Status: Unutilized

Reason: Secured Area

Nevada

28 Facilities

Nevada Test Site

Mercury Co: Nye NV 89023-

Landholding Agency: Energy

Property Number: 41200310018

Status: Excess

Reasons: Contamination; Secured Area

6 Bldgs.

Dale Street Complex

300, 400, 500, 600, Block Bldg, Valve House

Boulder City Co: NV 89005-

Landholding Agency: GSA

Property Number: 54200020017

Status: Excess

Reason: Extensive deterioration

GSA Number: LC-00-01-RP

New Jersey

Holmdel Housing Site

Telegraph Hill Road

Holmdel Co: Monmouth NJ 07733-

Location: Redetermination based on additional information from landholding agency

Landholding Agency: GSA

Property Number: 54200040005

Status: Excess

Reason: Within 2000 ft. of flammable or explosive material

GSA Number: 1-N-NJ-622

30 Bldgs.

Camp Charles Wood

Ft. Monmouth Co: Eatontown NJ

Landholding Agency: GSA

Property Number: 54200120008

Status: Excess

Reason: Within 2000 ft. of flammable or explosive material

GSA Number: 1-D-NJ-470f

Former Auerbach Property

Appalachian Natl Scenic Trail

Glenwood Co: Sussex NJ 07701-

Landholding Agency: Interior

Property Number: 61200230001

Status: Unutilized

Reason: Extensive deterioration

New Mexico

Bldg. 14170

Cannon AFB

Cannon AFB Co: Curry NM

Landholding Agency: Air Force

Property Number: 18200230010

Status: Unutilized

Reason: Secured Area

Bldg. 14240

Cannon AFB

Cannon AFB Co: NM

Landholding Agency: Air Force

Property Number: 18200230011

Status: Unutilized

Reason: Secured Area

Bldg. 14270

Cannon AFB

Cannon AFB Co: Curry NM

Landholding Agency: Air Force

Property Number: 18200230012

Status: Unutilized

Reason: Secured Area

Bldg. 14330

Cannon AFB

Cannon AFB Co: Curry NM

Landholding Agency: Air Force

Property Number: 18200230013

Status: Unutilized

Reason: Secured Area

Bldg. 14350

Cannon AFB

Cannon AFB Co: Curry NM

Landholding Agency: Air Force

Property Number: 18200230014

Status: Unutilized

Reason: Secured Area

Bldg. 14370

Cannon AFB

Cannon AFB Co: Curry NM

Landholding Agency: Air Force

Property Number: 18200230015

Status: Unutilized

Reason: Secured Area

Bldg. 14390

Cannon AFB

Cannon AFB Co: Curry NM

Landholding Agency: Air Force

Property Number: 18200230016

Status: Unutilized

Reason: Secured Area

Bldgs. 9252, 9268

Kirtland Air Force Base

Albuquerque Co: Bernalillo NM 87185

Landholding Agency: Energy

Property Number: 41199430002

Status: Unutilized

Reason: Extensive deterioration

Tech Area II

Kirtland Air Force Base

Albuquerque Co: Bernalillo NM 87105-

Landholding Agency: Energy

Property Number: 41199630004

Status: Unutilized

Reasons: Within 2000 ft. of flammable or explosive material; Secured Area; Extensive deterioration

Bldg. 1, TA-33

Los Alamos National Laboratory

Los Alamos NM 87545-

Landholding Agency: Energy

Property Number: 41199810001

Status: Unutilized

Reasons: Secured Area; Extensive deterioration

Bldg. 2, TA-33

Los Alamos National Laboratory

Los Alamos NM 87545-

Landholding Agency: Energy

Property Number: 41199810002

Status: Unutilized

Reasons: Secured Area; Extensive deterioration

Bldg. 24, TA-33

Los Alamos National Laboratory

Los Alamos NM 87545-

Landholding Agency: Energy

Property Number: 41199810003

Status: Unutilized

Reasons: Secured Area; Extensive deterioration

Bldg. 26, TA-33

Los Alamos National Laboratory

Los Alamos NM 87545-

Landholding Agency: Energy

Property Number: 41199810004

Status: Unutilized

Reasons: Secured Area; Extensive deterioration

Bldg. 86, TA-33

Los Alamos National Laboratory

Los Alamos NM 87545-

Landholding Agency: Energy

Property Number: 41199810005

Status: Unutilized

Reasons: Secured Area; Extensive deterioration

Bldg. 88, TA-33

Los Alamos National Laboratory

Los Alamos NM 87545-

Landholding Agency: Energy

Property Number: 41199810006

Status: Unutilized

Reasons: Secured Area; Extensive deterioration

Bldg. 89, TA-33

Los Alamos National Laboratory

Los Alamos NM 87545-

Landholding Agency: Energy

Property Number: 41199810007

Status: Unutilized

Reasons: Secured Area; Extensive deterioration

Bldg. 2, TA-21

Los Alamos National Laboratory

Los Alamos NM 87545-

Landholding Agency: Energy

Property Number: 41199810008

Status: Underutilized

Reason: Secured Area

Bldg. 5, TA-21

Los Alamos National Laboratory

Los Alamos NM 87545-

Landholding Agency: Energy

Property Number: 41199810011

Status: Unutilized

Reason: Secured Area

Bldg. 21, TA-21

Los Alamos National Laboratory

Los Alamos NM 87545-

Landholding Agency: Energy

Property Number: 41199810012

Status: Unutilized

Reason: Secured Area

Bldg. 116, TA-21

Los Alamos National Laboratory

Los Alamos NM 87545-

Landholding Agency: Energy

Property Number: 41199810013

Status: Unutilized

Reason: Secured Area

Bldg. 212, TA-21

Los Alamos National Laboratory

Los Alamos NM 87545-

Landholding Agency: Energy

Property Number: 41199810014

Status: Unutilized

Reason: Secured Area

Bldg. 228, TA-21

Los Alamos National Laboratory

Los Alamos NM 87545-

Landholding Agency: Energy

Property Number: 41199810015

Status: Unutilized

Reason: Secured Area

Bldg. 286, TA-21

Los Alamos National Laboratory

Los Alamos NM 87545-

Landholding Agency: Energy

Property Number: 41199810016

Status: Unutilized

Reason: Secured Area

Bldg. 63, TA-16

Los Alamos National Laboratory

Los Alamos NM 87545-

Landholding Agency: Energy

Property Number: 41199810019

Status: Unutilized

Reasons: Within 2000 ft. of flammable or explosive material; Extensive deterioration

Bldg. 515, TA-16

Los Alamos National Laboratory

Los Alamos NM 87545-

Landholding Agency: Energy

Property Number: 41199810020

Status: Unutilized

Reasons: Within 2000 ft. of flammable or explosive material; Secured Area; Extensive deterioration

Bldg. 516, TA-16

Los Alamos National Laboratory

Los Alamos NM 87545-

Landholding Agency: Energy

Property Number: 41199810021

Status: Unutilized

Reasons: Within 2000 ft. of flammable or explosive material; Secured Area; Extensive deterioration

Bldg. 517, TA-16

Los Alamos National Laboratory

Los Alamos NM 87545-

Landholding Agency: Energy

Property Number: 41199810022

Status: Unutilized

Reasons: Within 2000 ft. of flammable or explosive material; Secured Area; Extensive deterioration

Bldg. 518, TA-16

Los Alamos National Laboratory

Los Alamos NM 87545-

Landholding Agency: Energy

Property Number: 41199810023

Status: Unutilized

Reasons: Within 2000 ft. of flammable or explosive material; Secured Area; Extensive deterioration

Bldg. 519, TA-16

Los Alamos National Laboratory

Los Alamos NM 87545-

Landholding Agency: Energy

Property Number: 41199810024

Status: Unutilized

Reasons: Within 2000 ft. of flammable or explosive material; Secured Area; Extensive deterioration

Bldg. 520, TA-16

Los Alamos National Laboratory

Los Alamos NM 87545-

Landholding Agency: Energy

Property Number: 41199810025

Status: Unutilized

Reasons: Within 2000 ft. of flammable or explosive material; Secured Area; Extensive deterioration

Bldg. 18, TA-16

Los Alamos National Lab

Los Alamos NM 87545-

Landholding Agency: Energy

Property Number: 41199840001

Status: Unutilized

Reasons: Secured Area; Extensive deterioration

Bldg. 31

Los Alamos National Lab

Los Alamos Co: NM 87545-

Landholding Agency: Energy

Property Number: 41199930003

Status: Unutilized

Reasons: Secured Area; Extensive deterioration

Bldg. 4, TA-2

Los Alamos National Lab

Los Alamos Co: NM 87545-

Landholding Agency: Energy

Property Number: 41199930004

Status: Unutilized

Reason: Secured Area

Bldg. 50, TA-2

Los Alamos National Lab

Los Alamos Co: NM 87545-

Landholding Agency: Energy

Property Number: 41199930005

Status: Unutilized

Reason: Secured Area

Bldg. 88, TA-2

Los Alamos National Lab

Los Alamos Co: NM 87545-

Landholding Agency: Energy

Property Number: 41199930006

Status: Unutilized

Reason: Secured Area

Bldg. 89, TA-2

Los Alamos National Lab

Los Alamos Co: NM 87545-

Landholding Agency: Energy

Property Number: 41199930007

Status: Unutilized

Reason: Secured Area

Bldg. 21, TA-2

Los Alamos National Lab

Los Alamos Co: NM 87545-

Landholding Agency: Energy

Property Number: 41199940001

Status: Unutilized

Reason: Secured Area

Bldg. 57, TA-2

Los Alamos National Lab

Los Alamos Co: NM 87545-

Landholding Agency: Energy

Property Number: 41199940002

Status: Unutilized

Reason: Secured Area

Bldg. 28, TA-8

Los Alamos National Lab

Los Alamos Co: NM 87545-

Landholding Agency: Energy

Property Number: 41199940003

Status: Unutilized

Reason: Secured Area

Bldg. 38, TA-14

Los Alamos National Lab

Los Alamos Co: NM 87545-

Landholding Agency: Energy

Property Number: 41199940004

Status: Unutilized

Reasons: Secured Area; Extensive deterioration

Bldg. 8, TA-15

Los Alamos National Lab

Los Alamos Co: NM 87545-

Landholding Agency: Energy

Property Number: 41199940005

Status: Unutilized

Reasons: Secured Area; Extensive deterioration

Bldg. 9, TA-15

Los Alamos National Lab

Los Alamos Co: NM 87545-

Landholding Agency: Energy

Property Number: 41199940006

Status: Unutilized

Reason: Secured Area

Bldg. 22, TA-15

Los Alamos National Lab

Los Alamos Co: NM 87545-

Landholding Agency: Energy

Property Number: 41199940007

Status: Unutilized

Reason: Secured Area

Bldg. 141, TA-15

Los Alamos National Lab

Los Alamos Co: NM 87545-

Landholding Agency: Energy

Property Number: 41199940008

Status: Unutilized

Reason: Secured Area

Bldg. 44, TA-15

Los Alamos National Lab

Los Alamos Co: NM 87545-

Landholding Agency: Energy

Property Number: 41199940009

Status: Unutilized

Reason: Secured Area

Bldg. 2, TA-18

Los Alamos National Lab

Los Alamos Co: NM 87545-

Landholding Agency: Energy

Property Number: 41199940010

Status: Unutilized

Reasons: Secured Area; Extensive deterioration

Bldg. 5, TA-18

Los Alamos National Lab

Los Alamos Co: NM 87545-

Landholding Agency: Energy

Property Number: 41199940011

Status: Unutilized

Reasons: Secured Area; Extensive deterioration

Bldg. 186, TA-18

Los Alamos National Lab

Los Alamos Co: NM 87545-

Landholding Agency: Energy

Property Number: 41199940012

Status: Unutilized

Reasons:

Secured Area; Extensive deterioration

Bldg. 188, TA-18

Los Alamos National Lab

Los Alamos Co: NM 87545-

Landholding Agency: Energy

Property Number: 41199940013

Status: Unutilized

Reasons: Secured Area; Extensive deterioration

Bldg. 254, TA-21

Los Alamos National Lab

Los Alamos Co: NM 87545-

Landholding Agency: Energy

Property Number: 41199940014

Status: Unutilized

Reasons: Secured Area; Extensive deterioration

Bldg. 44, TA-36

Los Alamos National Lab

Los Alamos Co: NM 87545-

Landholding Agency: Energy

Property Number: 41199940015

Status: Unutilized

Reasons: Secured Area; Extensive deterioration

Bldg. 45, TA-36

Los Alamos National Lab

Los Alamos Co: NM 87545-

Landholding Agency: Energy

Property Number: 41199940016

Status: Unutilized

Reasons: Secured Area; Extensive deterioration

Bldg. 19, TA-40

Los Alamos National Lab

Los Alamos Co: NM 87545-

Landholding Agency: Energy

Property Number: 41199940017

Status: Unutilized

Reasons: Secured Area; Extensive deterioration

Bldg. 43, TA-40

Los Alamos National Lab

Los Alamos Co: NM 87545-

Landholding Agency: Energy

Property Number: 41199940018

Status: Unutilized

Reasons: Secured Area; Extensive deterioration

Bldg. 258, TA-46

Los Alamos National Lab

Los Alamos Co: NM 87545-

Landholding Agency: Energy

Property Number: 41199940019

Status: Unutilized

Reasons: Secured Area; Extensive deterioration

TA-2, Bldg. 1

Los Alamos National Lab

Los Alamos Co: NM 87545-

Landholding Agency: Energy

Property Number: 41200010008

Status: Unutilized

Reason: Secured Area

TA-2, Bldg. 44

Los Alamos National Lab

Los Alamos Co: NM 87545-

Landholding Agency: Energy

Property Number: 41200010009

Status: Unutilized

Reasons: Secured Area; Extensive deterioration

TA-3, Bldg. 208

Los Alamos National Lab

Los Alamos Co: NM 87545-

Landholding Agency: Energy

Property Number: 41200010010

Status: Unutilized

Reasons: Secured Area; Extensive deterioration

TA-6, Bldg. 1

Los Alamos National Lab

Los Alamos Co: NM 87545-

Landholding Agency: Energy

Property Number: 41200010011

Status: Unutilized

Reasons: Secured Area; Extensive deterioration

TA-6, Bldg. 2

Los Alamos National Lab

Los Alamos Co: NM 87545-

Landholding Agency: Energy

Property Number: 41200010012

Status: Unutilized

Reasons: Secured Area; Extensive deterioration

TA-6, Bldg. 3

Los Alamos National Lab

Los Alamos Co: NM 87545-

Landholding Agency: Energy

Property Number: 41200010013

Status: Unutilized

Reasons: Secured Area; Extensive deterioration

TA-6, Bldg. 5

Los Alamos National Lab

Los Alamos Co: NM 87545-

Landholding Agency: Energy

Property Number: 41200010014

Status: Unutilized

Reasons: Secured Area; Extensive deterioration

TA-6, Bldg. 6

Los Alamos National Lab

Los Alamos Co: NM 87545—

Landholding Agency: Energy

Property Number: 41200010015

Status: Unutilized

Reason: Secured Area

TA-6, Bldg. 7

Los Alamos National Lab

Los Alamos Co: NM 87545—

Landholding Agency: Energy

Property Number: 41200010016

Status: Unutilized

Reason: Secured Area

TA-6, Bldg. 8

Los Alamos National Lab

Los Alamos Co: NM 87545—

Landholding Agency: Energy

Property Number: 41200010017

Status: Unutilized

Reasons: Secured Area Extensive deterioration

TA-6, Bldg. 9

Los Alamos National Lab

Los Alamos Co: NM 87545—

Landholding Agency: Energy

Property Number: 41200010018

Status: Unutilized

Reason: Secured Area

TA-14, Bldg. 5

Los Alamos National Lab

Los Alamos Co: NM 87545—

Landholding Agency: Energy

Property Number: 41200010019

Status: Unutilized

Reason: Secured Area

TA-21, Bldg. 150

Los Alamos National Lab

Los Alamos Co: NM 87545—

Landholding Agency: Energy

Property Number: 41200010020

Status: Unutilized

Reason: Secured Area

Bldg. 149, TA-21

Los Alamos National Lab

Los Alamos Co: NM 87545—

Landholding Agency: Energy

Property Number: 41200010024

Status: Unutilized

Reason: Secured Area

Bldg. 312, TA-21

Los Alamos National Lab

Los Alamos Co: NM 87545—

Landholding Agency: Energy

Property Number: 41200010025

Status: Unutilized

Reason: Secured Area

Bldg. 313, TA-21

Los Alamos National Lab

Los Alamos Co: NM 87545—

Landholding Agency: Energy

Property Number: 41200010026

Status: Unutilized

Reason: Secured Area

Bldg. 314, TA-21

Los Alamos National Lab

Los Alamos Co: NM 87545—

Landholding Agency: Energy

Property Number: 41200010027

Status: Unutilized

Reason: Secured Area

Bldg. 315, TA-21

Los Alamos National Lab

Los Alamos Co: NM 87545—

Landholding Agency: Energy

Property Number: 41200010028

Status: Unutilized

Reason: Secured Area

Bldg. 1, TA-8

Los Alamos National Lab

Los Alamos Co: NM 87545—

Landholding Agency: Energy

Property Number: 41200010029

Status: Unutilized

Reason: Secured Area

Bldg. 2, TA-8

Los Alamos National Lab

Los Alamos Co: NM 87545—

Landholding Agency: Energy

Property Number: 41200010030

Status: Unutilized

Reasons: Secured Area; Extensive deterioration

Bldg. 3, TA-8

Los Alamos National Lab

Los Alamos Co: NM 87545—

Landholding Agency: Energy

Property Number: 41200020001

Status: Unutilized

Reasons: Secured Area; Extensive deterioration

Bldg. 51, TA-9

Los Alamos National Lab

Los Alamos Co: NM 87545—

Landholding Agency: Energy

Property Number: 41200020002

Status: Unutilized

Reason: Secured Area

Bldg. 30, TA-14

Los Alamos National Lab

Los Alamos Co: NM 87545—

Landholding Agency: Energy

Property Number: 41200020003

Status: Unutilized

Reason: Secured Area

Bldg. 16, TA-3

Los Alamos National Lab

Los Alamos Co: NM 87545—

Landholding Agency: Energy

Property Number: 41200020009

Status: Unutilized

Reason: Secured Area

Bldg. 339, TA-16

Los Alamos National Lab

Los Alamos Co: NM 87545—

Landholding Agency: Energy

Property Number: 41200020010

Status: Unutilized

Reason: Secured Area

Bldg. 340, TA-16

Los Alamos National Lab

Los Alamos Co: NM 87545—

Landholding Agency: Energy

Property Number: 41200020011

Status: Unutilized

Reason: Secured Area

Bldg. 341, TA-16

Los Alamos National Lab

Los Alamos Co: NM 87545—

Landholding Agency: Energy

Property Number: 41200020012

Status: Unutilized

Reason: Secured Area

Bldg. 342, TA-16

Los Alamos National Lab

Los Alamos Co: NM 87545—

Landholding Agency: Energy

Property Number: 41200020013

Status: Unutilized

Reason: Secured Area

Bldg. 343, TA-16

Los Alamos National Lab

Los Alamos Co: NM 87545—

Landholding Agency: Energy

Property Number: 41200020014

Status: Unutilized

Reason: Secured Area

Bldg. 345, TA-16

Los Alamos National Lab

Los Alamos Co: NM 87545—

Landholding Agency: Energy

Property Number: 41200020015

Status: Unutilized

Reason: Secured Area

Bldg. 16, TA-21

Los Alamos National Lab

Los Alamos Co: NM 87545—

Landholding Agency: Energy

Property Number: 41200020016

Status: Unutilized

Reason: Secured Area

Bldg. 48, TA-55

Los Alamos National Lab

Los Alamos Co: NM 87545-

Landholding Agency: Energy

Property Number: 41200020017

Status: Unutilized

Reason: Secured Area

Bldg. 125, TA-55

Los Alamos National Lab

Los Alamos Co: NM 87545-

Landholding Agency: Energy

Property Number: 41200020018

Status: Unutilized

Reason: Secured Area

Bldg. 162, TA-55

Los Alamos National Lab

Los Alamos Co: NM 87545-

Landholding Agency: Energy

Property Number: 41200020019

Status: Unutilized

Reason: Secured Area

Bldg. 22, TA-33

Los Alamos National Lab

Los Alamos Co: NM 87545-

Landholding Agency: Energy

Property Number: 41200020022

Status: Unutilized

Reasons: Secured Area; Extensive deterioration

Bldg. 23, TA-49

Los Alamos National Lab

Los Alamos Co: NM 87545-

Landholding Agency: Energy

Property Number: 41200020023

Status: Unutilized

Reason: Secured Area

Bldg. 37, TA-53

Los Alamos National Lab

Los Alamos Co: NM 87545-

Landholding Agency: Energy

Property Number: 41200020024

Status: Unutilized

Reason: Secured Area

Bldg. 121, TA-49

Los Alamos National Lab

Los Alamos Co: NM 87545-

Landholding Agency: Energy

Property Number: 41200020025

Status: Unutilized

Reason: Secured Area

Bldg. 30, TA-21

Los Alamos National Lab

Los Alamos Co: NM 87545-

Landholding Agency: Energy

Property Number: 41200040001

Status: Unutilized

Reason: Secured Area

Bldg. 152 TA-21

Los Alamos National Lab

Los Alamos Co: NM 87545-

Landholding Agency: Energy

Property Number: 41200040002

Status: Unutilized

Reason: Secured Area

Bldg. 105, TA-3

Los Alamos Natl Lab

Los Alamos Co: NM 87545-

Landholding Agency: Energy

Property Number: 41200120007

Status: Excess

Reason: Secured Area

Bldg. 452, TA-3

Los Alamos Natl Lab

Los Alamos Co: NM 87545-

Landholding Agency: Energy

Property Number: 41200120008

Status: Excess

Reason: Secured Area

5 Bldgs.

Kirtland AFB

Sandia Natl Lab

Albuquerque Co: Bernalillo NM 87185-

Location: 9927, 9970, 6730, 6731, 6555

Landholding Agency: Energy

Property Number: 41200210014

Status: Excess

Reason: Extensive deterioration

6 Bldgs.

Kirtland AFB

Sandia Natl Lab

Albuquerque Co: Bernalillo NM 87185-

Location: 6725, 841, 884, 892, 893, 9800

Landholding Agency: Energy

Property Number: 41200210015

Status: Excess

Reason: Extensive deterioration

TA-53, Bldg. 61

Los Alamos National Lab

Los Alamos Co: NM 87545-

Landholding Agency: Energy

Property Number: 41200220023

Status: Unutilized

Reason: Extensive deterioration

TA-53, Bldg. 63

Los Alamos National Lab

Los Alamos Co: NM 87545-

Landholding Agency: Energy

Property Number: 41200220024

Status: Unutilized

Reason: Extensive deterioration

TA-53, Bldg. 65

Los Alamos National Lab

Los Alamos Co: NM 87545-

Landholding Agency: Energy

Property Number: 41200220025

Status: Unutilized

Reason: Extensive deterioration

Bldg. B117

Kirtland Operations

Albuquerque Co: Bernalillo NM 87117-

Landholding Agency: Energy

Property Number: 41200220032

Status: Excess

Reason: Extensive deterioration

Bldg. B118

Kirtland Operations

Albuquerque Co: Bernalillo NM 87117-

Landholding Agency: Energy

Property Number: 41200220033

Status: Excess

Reason: Extensive deterioration

Bldg. B119

Kirtland Operations

Albuquerque Co: Bernalillo NM 87117-

Landholding Agency: Energy

Property Number: 41200220034

Status: Excess

Reason: Extensive deterioration

Bldg. 6721

Kirtland AFB

Albuquerque Co: Bernalillo NM 87185-

Landholding Agency: Energy

Property Number: 41200220042

Status: Unutilized

Reason: Extensive deterioration

6 Bldgs.

Kirtland Air Force Base

#852, 874, 9939A, 6536, 6636, 833A

Albuquerque Co: NM 87185-

Landholding Agency: Energy

Property Number: 41200230001

Status: Excess

Reason: Secured Area

Bldg. 805

Kirtland Air Force Base

Albuquerque Co: Bernalillo NM 87185-

Landholding Agency: Energy

Property Number: 41200240001

Status: Unutilized

Reason: Secured Area

Bldg. 8898

Kirtland Air Force Base

Albuquerque Co: Bernalillo NM 87185-

Landholding Agency: Energy

Property Number: 41200240002

Status: Unutilized

Reason: Secured Area

8 Bldgs., TA-16

Los Alamos National Lab

195, 220-226

Los Alamos Co: NM 87545-

Landholding Agency: Energy

Property Number: 41200240003

Status: Unutilized

Reason: Secured Area

Bldg. 2, TA-11

Los Alamos National Lab

Los Alamos Co: NM 87545-

Landholding Agency: Energy

Property Number: 41200240004

Status: Unutilized

Reason: Secured Area

Bldg. 4, TA-41

Los Alamos National Lab

Los Alamos Co: NM 87545-

Landholding Agency: Energy

Property Number: 41200240005

Status: Unutilized

Reason: Secured Area

Bldg. 16, TA-41

Los Alamos National Lab

Los Alamos Co: NM 87545-

Landholding Agency: Energy

Property Number: 41200240006

Status: Unutilized

Reason: Secured Area

Bldg. 30, TA-41

Los Alamos National Lab

Los Alamos Co: NM 87545-

Landholding Agency: Energy

Property Number: 41200240007

Status: Unutilized

Reason: Secured Area

Bldg. 53, TA-41

Los Alamos National Lab

Los Alamos Co: NM 87545-

Landholding Agency: Energy

Property Number: 41200240008

Status: Unutilized

Reason: Secured Area

New York

6 UG Missile Silos

Youngstown Test Annex

Porter Co: Niagara NY

Landholding Agency: Air Force

Property Number: 18200220003

Status: Unutilized

Reason: Extensive deterioration

Bldg. 100

Youngstown Test Annex

Porter Co: Niagara NY

Landholding Agency: Air Force

Property Number: 18200220004

Status: Unutilized

Reason: Extensive deterioration

Bldg. 101

Youngstown Test Annex

Porter Co: Niagara NY

Landholding Agency: Air Force

Property Number: 18200220005

Status: Unutilized

Reason: Extensive deterioration

Bldg. 104

Youngstown Test Annex

Porter Co: Niagara NY

Landholding Agency: Air Force

Property Number: 18200220006

Status: Unutilized

Reason: Extensive deterioration

Bldg. 107

Youngstown Test Annex

Porter Co: Niagara NY

Landholding Agency: Air Force

Property Number: 18200220007

Status: Unutilized

Reason: Extensive deterioration

Bldg. 109

Youngstown Test Annex

Porter Co: Niagara NY

Landholding Agency: Air Force

Property Number: 18200220008

Status: Unutilized

Reason: Extensive deterioration

Bldg. 116

Youngstown Test Annex

Porter Co: Niagara NY

Landholding Agency: Air Force

Property Number: 18200220009

Status: Unutilized

Reason: Extensive deterioration

Middle Marker

Wind Shear Site

31st Ave & 75th St

Jackson Heights Co: Queens NY 11434-

Landholding Agency: GSA

Property Number: 54200210004

Status: Surplus

Reason: Extensive deterioration

GSA Number: 1-U-NY-889

Fed. Bldg. #2

850 Third Ave.

Brooklyn Co: NY 11232-

Landholding Agency: GSA

Property Number: 54200240005

Status: Surplus

Reason: Within 2000 ft. of flammable or explosive material

GSA Number: 1-G-NY-0872

Fed. Bldg. #2

850 Third Ave.

Brooklyn Co: NY 11232-

Landholding Agency: GSA

Property Number: 54200240005

Status: Surplus

Reason: Within 2000 ft. of flammable or explosive material

GSA Number: 1-G-NY-0872

Former Guardia Property

Appalachian Natl Scenic Trail

E. Fishkill Co: Dutchess NY 11370-

Landholding Agency: Interior

Property Number: 61200230002

Status: Unutilized

Reason: Extensive deterioration

Ohio

Bldg. 77

Fernald Environmental Management Project

Fernald Co: Hamilton OH 45013-

Landholding Agency: Energy

Property Number: 41199840003

Status: Excess

Reasons: Within 2000 ft. of flammable or explosive material; Secured Area

Bldg. 82A

Fernald Environmental Mgmt Project

Fernald Co: Hamilton OH 45013-

Landholding Agency: Energy

Property Number: 41199910018

Status: Excess

Reasons: Within 2000 ft. of flammable or explosive material; Secured Area

Bldg. 16

RMI Environmental Services

Ashtabula Co: OH 44004-

Landholding Agency: Energy

Property Number: 41199930016

Status: Unutilized

Reason: Secured Area

Bldg. 22B

Fernald Env. Mgmt. Proj.

Hamilton Co: OH 45013-9402

Landholding Agency: Energy

Property Number: 41200020026

Status: Unutilized

Reasons: Within 2000 ft. of flammable or explosive material; Secured Area

Bldg. 53A

Fernald Env. Mgmt. Project

Fernald Co: Hamilton OH 45013-9402

Landholding Agency: Energy

Property Number: 41200120009

Status: Excess

Reason: Secured Area

Bldg. 8G

Fernald Environmental Mgmt Project

Hamilton Co: OH 45013-

Landholding Agency: Energy

Property Number: 41200210003

Status: Excess

Reason: Secured Area

Bldg. 8H

Fernald Environmental Mgmt Project

Hamilton Co: OH 45013-

Landholding Agency: Energy

Property Number: 41200210004

Status: Excess

Reason: Secured Area

Bldg. 94A

Fernald Environmental Mgmt Project

Hamilton Co: OH 45013-

Landholding Agency: Energy

Property Number: 41200210005

Status: Excess

Reason: Secured Area

Bldg. 11

Fernald Env. Mgmt. Proj.

Hamilton Co: OH 45013-

Landholding Agency: Energy

Property Number: 41200220026

Status: Excess

Reason: Secured Area

Bldg. 14A

Fernald Env. Mgmt. Proj

Hamilton Co: OH 45013-

Landholding Agency: Energy

Property Number: 41200220027

Status: Excess

Reason: Secured Area

Bldg. 15A

Fernald Env. Mgmt. Proj.

Hamilton Co: OH 45013-

Landholding Agency: Energy

Property Number: 41200220028

Status: Excess

Reason: Secured Area

Bldg. 15C

Fernald Env. Mgmt. Proj.

Hamilton Co: OH 45013-

Landholding Agency: Energy

Property Number: 41200220029

Status: Excess

Reason: Secured Area

Bldg. 20K

Fernald Env. Mgmt. Proj.

Hamilton Co: OH 45013-

Landholding Agency: Energy

Property Number: 41200220030

Status: Excess

Reason: Secured Area

Bldg. 53B

Fernald Env. Mgmt. Proj.

Hamilton Co: OH 45013-

Landholding Agency: Energy

Property Number: 41200220031

Status: Excess

Reason: Secured Area

Pennsylvania

Z-Bldg.

Bettis Atomic Power Lab

West Mifflin Co: Allegheny PA 15122-0109

Landholding Agency: Energy

Property Number: 41199720002

Status: Excess

Reason: Extensive deterioration

Former Sunday Property

Appalachian Natl Scenic Trail

Boiling Springs Co: Cumberland PA 17007-

Landholding Agency: Interior

Property Number: 61200230003

Status: Unutilized

Reason: Extensive deterioration

Puerto Rico

Culebrita Island Lighthouse

Culebra Island Co: PR

Landholding Agency: GSA

Property Number: 54200210021

Status: Surplus

Reason: Inaccessible

GSA Number : 1-T-PR-509

Structure 1026

Bahia Salina Del Sur

East Vieques Co: PR-

Landholding Agency: Navy

Property Number: 77200310053

Status: Unutilized

Reasons: Within 2000 ft. of flammable or explosive material, Floodway, Secured Area; Extensive deterioration

Rhode Island

Facility 6

Quonset State Airport

N. Kingstown Co: RI 02852-7545

Landholding Agency: Air Force

Property Number: 18200240008

Status: Unutilized

Reason: Within 2000 ft. of flammable or explosive material

Facility 16

Quonset State Airport

N. Kingstown Co: RI 02852-7545

Landholding Agency: Air Force

Property Number: 18200240009

Status: Unutilized

Reason: Within 2000 ft. of flammable or explosive material

Tennessee

Bldg. 3004

Oak Ridge National Lab

Oak Ridge Co: Roane TN 37831-

Landholding Agency: Energy

Property Number: 41199710002

Status: Unutilized

Reasons: Secured Area; Extensive deterioration

Bldg. 3004

Oak Ridge National Lab

Oak Ridge Co: Roane TN 37831-

Landholding Agency: Energy

Property Number: 41199720001

Status: Excess

Reason: Extensive deterioration

Bldgs. 9714-3, 9714-4, 9983-AY

Y-12 Pistol Range

Oak Ridge Co: Anderson TN 37831-

Landholding Agency: Energy

Property Number: 41199720004

Status: Unutilized

Reason: Secured Area

5 Bldgs.

K-724, K-725, K-1031, K-1131, K-1410

East Tennessee Technology Park

Oak Ridge Co: Roane TN 37831-

Landholding Agency: Energy

Property Number: 41199730001

Status: Unutilized

Reason: Extensive deterioration

Bldg. 9418-1

Y-12 Plant

Oak Ridge Co: Anderson TN 37831-

Landholding Agency: Energy

Property Number: 41199810026

Status: Unutilized

Reasons: Secured Area; Extensive deterioration

Bldg. 9825

Y-12 Plant

Oak Ridge Co: Anderson TN 37831-

Landholding Agency: Energy

Property Number: 41199810027

Status: Unutilized

Reason: Secured Area

Bldg. 3026

Oak Ridge Natl Lab

Oak Ridge Co: Roane TN 37831

Landholding Agency: Energy

Property Number: 41199830001

Status: Excess

Reasons: Secured Area; Extensive deterioration

Bldg. 3505

Oak Ridge National Lab

Oak Ridge Co: Roane TN 37831-

Landholding Agency: Energy

Property Number: 41199940020

Status: Unutilized

Reasons: Secured Area; Extensive deterioration

9 Bldgs.

E. Tennessee Tech Park

Oak Ridge Co: Roane TN 37831-

Location: K-1001, K-1301, K-1302, K-1303, K-1404, K-1405-6, K-1407, K-1408A, K-1413

Landholding Agency: Energy

Property Number: 41200010023

Status: Unutilized

Reasons: Secured Area; Extensive deterioration

Bldg. 9723-16

National Security Complex

Oak Ridge Co: Anderson TN 37831-

Landholding Agency: Energy

Property Number: 41200120010

Status: Unutilized

Reasons: Secured Area; Extensive deterioration

5 Bldgs.

Oak Ridge National Lab

#7811, 7819, 7833, 7852, 7860

Oak Ridge Co: Roane TN 37831-

Landholding Agency: Energy

Property Number: 41200130001

Status: Unutilized

Reasons: Contamination; Secured Area; Extensive deterioration

Bldg. 81-22

Y-12 National Security Complex

Oak Ridge Co: Anderson TN 37831-

Landholding Agency: Energy

Property Number: 41200140001

Status: Unutilized

Reasons: Secured Area; Extensive deterioration

Bldg. 9409-26

Y-12 National Security Complex

Oak Ridge Co: Anderson TN 37831-

Landholding Agency: Energy

Property Number: 41200140002

Status: Unutilized

Reasons: Secured Area; Extensive deterioration

Bldg. 9723-4

Y-12 National Security Complex

Oak Ridge Co: Anderson TN 37831-

Landholding Agency: Energy

Property Number: 41200140003

Status: Unutilized

Reasons: Secured Area; Extensive deterioration

Bldg. 9733-4

Y-12 National Security Complex

Oak Ridge Co: Anderson TN 37831-

Landholding Agency: Energy

Property Number: 41200140004

Status: Unutilized

Reasons: Secured Area; Extensive deterioration

4 Bldgs.

Y-12 National Security Complex

#9929-1, 9823, 9827 & shed

Oak Ridge Co: Anderson TN 37831-

Landholding Agency: Energy

Property Number: 41200140005

Status: Unutilized

Reasons: Secured Area; Extensive deterioration

Bldg. 9949-1

Y-12 National Security Complex

Oak Ridge Co: Anderson TN 37831-

Landholding Agency: Energy

Property Number: 41200140006

Status: Unutilized

Reason: Secured Area

Bldg. 9949-31

Y-12 Natl Security Complex

Oak Ridge Co: Anderson TN 37831-

Landholding Agency: Energy

Property Number: 41200210001

Status: Unutilized

Reason: Secured Area

Bldg. SC-14

ORISE Scarboro Operations Site

Oak Ridge Co: Anderson TN 37831-

Landholding Agency: Energy

Property Number: 41200210002

Status: Excess

Reason: Secured Area

Bldg. 9723-18

Y-12 National Security Complex

Oak Ridge Co: Anderson TN 37831-

Landholding Agency: Energy

Property Number: 41200210006

Status: Unutilized

Reasons: Secured Area; Extensive deterioration

Bldg. 9728

Y-12 National Security Complex

Oak Ridge Co: Anderson TN 37831-

Landholding Agency: Energy

Property Number: 41200210007

Status: Unutilized

Reasons: Secured Area; Extensive deterioration

Bldg. 9404-03

Y-12 Natl Security Complex

Oak Ridge Co: Anderson TN 39831-

Landholding Agency: Energy

Property Number: 41200220035

Status: Unutilized

Reason: Secured Area

Bldg. 9404-07

Y-12 Natl Security Complex

Oak Ridge Co: Anderson TN 37831-

Landholding Agency: Energy

Property Number: 41200220036

Status: Unutilized

Reason: Secured Area

Bldg. 9404-08

Y-12 Natl Security Complex

Oak Ridge Co: Anderson TN 37831-

Landholding Agency: Energy

Property Number: 41200220037

Status: Unutilized

Reason: Secured Area

4 Bldgs.

Y-12 Natl Security Complex 9418-4, 9418-5, 9418-6, 9418-9

Oak Ridge Co: Anderson TN 37831-

Landholding Agency: Energy

Property Number: 41200220038

Status: Unutilized

Reason: Secured Area

Bldg. 9620-2

Y-12 Natl Security Complex

Oak Ridge Co: Anderson TN 37831-

Landholding Agency: Energy

Property Number: 41200220039

Status: Unutilized

Reasons: Secured Area; Extensive deterioration

Bldgs. 9769, 9770-3

Y-12 Natl Security Complex

Oak Ridge Co: Anderson TN 37831-

Landholding Agency: Energy

Property Number: 41200220040

Status: Unutilized

Reason: Secured Area

Bldgs. 9720-1, 9720-2

Y-12 Natl Security Complex

Oak Ridge Co: Anderson TN 37831-

Landholding Agency: Energy

Property Number: 41200220041

Status: Unutilized

Reasons: Secured Area; Extensive deterioration

Bldg. 9723-21

Y-12 Natl Security Complex

Oak Ridge Co: Anderson TN 37831-

Landholding Agency: Energy

Property Number: 41200220043

Status: Unutilized

Reasons: Secured Area; Extensive deterioration

Bldgs. 9205, 9208

Y-12 Natl Security Complex

Oak Ridge Co: Anderson TN 37831-

Landholding Agency: Energy

Property Number: 41200220059

Status: Unutilized

Reasons: Secured Area; Extensive deterioration

Bldgs. 2013, 2506, 6003

Oak Ridge National Lab

Oak Ridge Co: Roane TN 37831-

Landholding Agency: Energy

Property Number: 41200220060

Status: Unutilized

Reasons: Secured Area; Extensive deterioration

Bldg. 9720-14

Y-12 National Security Complex

Oak Ridge Co: Anderson TN 37831-

Landholding Agency: Energy

Property Number: 41200230002

Status: Excess

Reason: Secured Area

6 Bldgs.

Y-12 National Security Complex

Oak Ridge Co: Anderson TN 37831-

Location: 9983-62, 9983-63, 9983-64, 9983-65, 9983-71, 9983-72

Landholding Agency: Energy

Property Number: 41200230003

Status: Excess

Reason: Secured Area

4 Bldgs.

Oak Ridge National Lab

0954, 0961, 2093, 3013

Oak Ridge Co: Roane TN 37831-

Landholding Agency: Energy

Property Number: 41200310019

Status: Unutilized

Reason: Secured Area

22 Bldgs.

Volunteer Army Ammunition Plant

Warehouses (Southern Portion)

Chattanooga Co: Hamilton TN 37421-

Landholding Agency: GSA

Property Number: 54199930016

Status: Surplus

Reason: Within 2000 ft. of flammable or explosive material

GSA Number: 4-D-TN-594F

17 Bldgs.

Volunteer Army Ammunition Plant

Acid Production

Chattanooga Co: Hamilton TN 37421-

Landholding Agency: GSA

Property Number: 54199930017

Status: Surplus

Reasons: Within 2000 ft. of flammable or explosive material; contamination

GSA Number: 4-D-TN-594F

41 Facilities

Volunteer Army Ammunition Plant

TNT Production

Chattanooga Co: Hamilton TN 37421-

Landholding Agency: GSA

Property Number: 54199930018

Status: Surplus

Reason: Contamination

GSA Number: 4-D-TN-594F

5 Facilities

Volunteer Army Ammunition Plant

Waste Water Treatment

Chattanooga Co: Hamilton TN 37421-

Landholding Agency: GSA

Property Number: 54199930019

Status: Surplus

Reason: Extensive deterioration

GSA Number: 4-D-TN-594F

6 Bldgs.

Volunteer Army Ammunition Plant

Offices (Southern Portion)

Chattanooga Co: Hamilton TN 37421-

Landholding Agency: GSA

Property Number: 54199930023

Status: Surplus

Reason: Within 2000 ft. of flammable or explosive material

GSA Number: 4-D-TN-594F

Army Reserve Center #2

360 Ornamental Metal Museum Dr.

Memphis Co: Shelby TN 38106-

Landholding Agency: GSA

Property Number: 54200120004

Status: Surplus

Reasons: Within 2000 ft. of flammable or explosive material; Extensive deterioration

GSA Number: 4-D-TN-0650

Tract 01-186

Stones River Natl Battlefield

Murfreesboro Co: Rutherford TN 37129-

Landholding Agency: Interior

Property Number: 61200230004

Status: Excess

Reason: Extensive deterioration

Texas

6 Bldgs.

Ellington Field

1277, 1381, 1385, 1386, 1388, 1249

Houston Co: Harris TX 77034-5586

Landholding Agency: Air Force

Property Number: 18200240010

Status: Excess

Reason: Extensive deterioration

Zone 5, Bldg. FS-18

Pantex Plant

Amarillo Co: Carson TX 79120-

Landholding Agency: Energy

Property Number: 41200220044

Status: Unutilized

Reasons: Within 2000 ft. of flammable or explosive material; Secured Area

Zone 11, Bldg. 11-001

Pantex Plant

Amarillo Co: Carson TX 79120-

Landholding Agency: Energy

Property Number: 41200220045

Status: Unutilized

Reasons: Within 2000 ft. of flammable or explosive material; Secured Area

Zone 11, 3 Bldgs.

11-015, 11-015B, 11-046

Pantex Plant

Amarillo Co: Carson TX 79120-

Landholding Agency: Energy

Property Number: 41200220046

Status: Unutilized

Reasons: Within 2000 ft. of flammable or explosive material; Secured Area

Zone 11, Bldg. 11-041

Pantex Plant

Amarillo Co: Carson TX 79120-

Landholding Agency: Energy

Property Number: 41200220047

Status: Unutilized

Reason: Within 2000 ft. of flammable or explosive material; Secured Area

Zone 11, Bldg. 11-044

Pantex Plant

Amarillo Co: Carson TX 79120-

Landholding Agency: Energy

Property Number: 41200220048

Status: Unutilized

Reasons: Within 2000 ft. of flammable or explosive material; Secured Area

Zone 12, Bldg. 12-003P

Pantex Plant

Amarillo Co: Carson TX 79120-

Landholding Agency: Energy

Property Number: 41200220049

Status: Unutilized

Reasons: Within 2000 ft. of flammable or explosive material; Secured Area

Zone 12, Bldg. 12-05G1

Pantex Plant

Amarillo Co: Carson TX 79120-

Landholding Agency: Energy

Property Number: 41200220050

Status: Unutilized

Reasons: Within 2000 ft. of flammable or explosive material; Secured Area

Zone 12, 11 Bldgs.

Pantex Plant

Amarillo Co: Carson TX 79120-

Location: 12-010, 12-010V1, 12-010V2, 12-010L, 12-R-010, 12-012, 12-R-012, 12-012V, 12-R-013, 12-R-013RR, 12-13V

Landholding Agency: Energy

Property Number: 41200220051

Status: Unutilized

Reasons: Within 2000 ft. of flammable or explosive material; Secured Area

Zone 12, Bldg. 12-017C

Pantex Plant

Amarillo Co: Carson TX 79120-

Landholding Agency: Energy

Property Number: 41200220052

Status: Unutilized

Reasons: Within 2000 ft. of flammable or explosive material; Secured Area

Zone 12, Bldg. 12-20

Pantex Plant

Amarillo Co: Carson TX 79120-

Landholding Agency: Energy

Property Number: 41200220053

Status: Unutilized

Reasons: Within 2000 ft. of flammable or explosive material; Secured Area

Zone 12, 8 Bldgs.

Pantex Plant

Amarillo Co: Carson TX 79120-

Location: 12-024, 12-024A, 12-02455, 12-025, 12-R-025, 12-030, 12-043, 12-043A

Landholding Agency: Energy

Property Number: 41200220054

Status: Unutilized

Reasons: Within 2000 ft. of flammable or explosive material; Secured Area

Zone 12, Bldg. 12-27

Pantex Plant

Amarillo Co: Carson TX 79120-

Landholding Agency: Energy

Property Number: 41200220055

Status: Unutilized

Reasons: Within 2000 ft. of flammable or explosive material; Secured Area

Zone 12, Bldg. 12-038

Pantex Plant

Amarillo Co: Carson TX 79120-

Landholding Agency: Energy

Property Number: 41200220056

Status: Unutilized

Reasons: Within 2000 ft. of flammable or explosive material; Secured Area

Zone 12, 2 Bldgs.

Pantex Plant

Amarillo Co: Carson TX 79120-

Location: 12-076, 12-076A

Landholding Agency: Energy

Property Number: 41200220057

Status: Unutilized

Reasons: Within 2000 ft. of flammable or explosive material; Secured Area

Zone 13, 6 Bldgs.

Pantex Plant

Amarillo Co: Carson TX 79120-

Location: 13-041, 13-042, 13-043, 13-044, 13-045, 13-046

Landholding Agency: Energy

Property Number: 41200220058

Status: Unutilized

Reasons: Within 2000 ft. of flammable or explosive material; Secured Area

10 Bldgs.

DOE Pantex Plant

Amarillo Co: Carson TX 79120-

Location: 11-023, 024, 034, 036, 036SS, 039, 039SS, 11-R-014, 11-R-020, 11-R-039

Landholding Agency: Energy

Property Number: 41200310020

Status: Unutilized

Reasons: Within 2000 ft. of flammable or explosive material; Secured Area

Bldg. 113

Naval Air Station

Corpus Christi Co: Nueces TX 78419-

Landholding Agency: Navy

Property Number: 77200310054

Status: Excess

Reason: Within 2000 ft. of flammable or explosive material

Virginia

Bldg. 417

Camp Pendleton

Virginia Beach Co: VA 23451-

Landholding Agency: Air Force

Property Number: 18200240011

Status: Excess

Reasons: Secured Area; Extensive deterioration

Bayview Tower

Langley AFB

Langley AFB Co: VA 23665-

Landholding Agency: Air Force

Property Number: 18200240012

Status: Unutilized

Reason: Floodway

Washington

Goat Island Quarry

Skagit Co: WA

Landholding Agency: GSA

Property Number: 54200230005

Status: Excess

Reason: not accessible

GSA Number : 9-D-WA-1201

Federal Building

104 W. Magnolia

Bellingham Co: WA 98224-

Landholding Agency: GSA

Property Number: 54200310021

Status: Surplus

Reason: Within 2000 ft. of flammable or explosive material

GSA Number : 9-G-WA-1203

Wyoming

Bldg. 360

F. E. Warren AFB

Cheyenne Co: Laramie WY 82005-5000

Landholding Agency: Air Force

Property Number: 18200240013

Status: Unutilized

Reasons: Secured Area; Extensive deterioration

Land (by State)

Arkansas

Sandy Beach Rec Area

Camden Co: Ouachita AR 71701-

Landholding Agency: GSA

Property Number: 54200230010

Status: Surplus

Reason: Floodway

GSA Number : 7-D-AR-566

Recreation Area

Sandy Beach

Camden Co: Ouachita AR 71701-

Landholding Agency: GSA

Property Number: 54200240003

Status: Surplus

Reason: Floodway

GSA Number : 7-D-AR-0566

Colorado

Landfill 48th & Holly Streets

Commerce Co: Adams CO 80022-

Landholding Agency: GSA

Property Number: 54200220006

Status: Surplus

Reasons: Within 2000 ft. of flammable or explosive material; contamination

GSA Number : 7-Z-CO-0647

Florida

3 parcels

U.S. Customs Svc Natl Law

Enforcement Comm Ctr

Orlando Co: Orange FL 32803-

Landholding Agency: GSA

Property Number: 54200310015

Status: Excess

Reason: landlocked

GSA Number : 4-T-FL-1209-1A

Michigan

Port/EPA Large Lakes Rsch Lab

Grosse Ile Twp Co: Wayne MI

Landholding Agency: GSA

Property Number: 54199720022

Status: Excess

Reason: Within airport runway clear zone

GSA Number : 1-Z-MI-554-A

20.3 acres

Moon Island

Munuscong Lake Co: Chippewa MI -

Landholding Agency: GSA

Property Number: 54200240008

Status: Excess

Reason: not accessible by road

GSA Number : 1-U-MI-803

5.43 acres

Drummond Island

Drummond Tnshp Co: Cheppawa MI -

Landholding Agency: GSA

Property Number: 54200240009

Status: Excess

Reason: not accessible by road

GSA Number : 1-U-MI-449A

Minnesota

Parcel A

Twin Cities Army Ammunition Plant

Arden Hills Co: MN 55112-3938

Landholding Agency: GSA

Property Number: 54200240014

Status: Excess

Reason: Within 2000 ft. of flammable or explosive material

GSA Number : 1-D-MN-0578A

Mississippi

Greenwood & Boat Ramp

Greenwood Co: Leflore MS

Landholding Agency: GSA

Property Number: 54200230013

Status: Surplus

Reason: Within airport runway clear zone

GSA Number : 4-D-MS-0560

Ohio

Lewis Research Center

Cedar Point Road

Cleveland Co: Cuyahoga OH 44135-

Landholding Agency: GSA

Property Number: 54199610007

Status: Excess

Reasons: Within 2000 ft. of flammable or explosive material; within airport runway clear zone

GSA Number : 2-Z-OH-598-I

Puerto Rico

Parcel 2E

Naval Security Group

Sabana Seca Co: Toa Baja PR

Landholding Agency: GSA

Property Number: 54200210024

Status: Excess

Reason: Within 2000 ft. of flammable or explosive material

GSA Number : 1-N-PR-496

Parcel 2R

Naval Security Group

Sabana Seca Co: Toa Baja PR -

Landholding Agency: GSA

Property Number: 54200210025

Status: Excess

Reason: Within 2000 ft. of flammable or explosive material

GSA Number : 1-N-PR-494

Parcel 2W

Naval Security Group

Sabana Seca Co: Toa Baja PR -

Landholding Agency: GSA

Property Number: 54200210026

Status: Excess

Reason: Within 2000 ft. of flammable or explosive material

GSA Number : 1-N-PR-495

Washington

Hanford Training Site

Horn Rapids Rd.

Benton Co: WA

Landholding Agency: GSA

Property Number: 54200210012

Status: Excess

Reason: Within 2000 ft. of flammable or explosive material

GSA Number : 9-B-WA1198A

Hanford Training Site #2

Horn Rapids Road

Benton Co: Benton WA

Landholding Agency: GSA

Property Number: 54200240017

Status: Excess

Reason: Within 2000 ft. of flammable or explosive material

GSA Number : 9-B-WA-1198B

[FR Doc. 03-6606 Filed 3-20-03; 8:45 am]

BILLING CODE 4210-29-P